NUCLEAR REGULATORY COMMISSION

[NRC-2010-0308]

Applications and Amendments to Facility Operating Licenses Involving Proposed No Significant Hazards Considerations and Containing Sensitive Unclassified Non-Safeguards Information and Order Imposing Procedures for Access to Sensitive Unclassified Non-Safeguards Information

I. Background

Pursuant to section 189a. (2) of the Atomic Energy Act of 1954, as amended (the Act), the U.S. Nuclear Regulatory Commission (the Commission or NRC staff) is publishing this notice. The Act requires the Commission publish notice of any amendments issued, or proposed to be issued and grants the Commission the authority to issue and make immediately effective any amendment to an operating license upon a determination by the Commission that such amendment involves no significant hazards consideration, notwithstanding the pendency before the Commission of a request for a hearing from any person.

This notice includes notices of amendments containing sensitive unclassified non-safeguards information (SUNSI).

Notice of Consideration of Issuance of Amendments to Facility Operating Licenses, Proposed No Significant Hazards Consideration Determination, and Opportunity for a Hearing

The Commission has made a proposed determination that the following amendment requests involve no significant hazards consideration. Under the Commission's regulations in Title 10 of the Code of Federal Regulations (10 CFR), Section 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Written comments may be submitted by mail to the Chief, Rules, Announcements and Directives Branch (RADB), TWB-05-B01M, Division of Administrative Services, Office of Administration, U.S. Nuclear Regulatory Commission, Washington, DC 20555-0001, and should cite the publication date and page number of this Federal Register notice. Written comments may also be faxed to the RADB at 301-492-3446. Documents may be examined, and/or copied for a fee, at the NRC's Public Document Room (PDR), located at One White Flint North, Public File Area O1 F21, 11555 Rockville Pike (first floor), Rockville, Maryland.

Within 60 days after the date of publication of this notice, any person(s) whose interest may be affected by this action may file a request for a hearing and a petition to intervene with respect to issuance of the amendment to the subject facility operating license. Requests for a hearing and a petition for leave to intervene shall be filed in accordance with the Commission's “Rules of Practice for Domestic Licensing Proceedings” in 10 CFR Part 2. Interested person(s) should consult a current copy of 10 CFR 2.309, which is available at the Commission's PDR, located at One White Flint North, Public File Area O1F21, 11555 Rockville Pike (first floor), Rockville, Maryland, or at http://www.nrc.gov/reading-rm/doc-collections/cfr/part002/part002-0309.html. Publicly available records will be accessible from the Agencywide Documents Access and Management System's (ADAMS) Public Electronic Reading Room on the Internet at the NRC Web site, http://www.nrc.gov/reading-rm.html. If a request for a hearing or petition for leave to intervene is filed within 60 days, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also set forth the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, and the Commission has not made a final determination on the issue of no significant hazards consideration, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, any hearing held would take place before the issuance of any amendment.

All documents filed in NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139, August 28, 2007). The E-Filing process requires participants to submit and serve all adjudicatory documents over the internet, or in some cases to mail copies on electronic storage media. Participants may not submit paper copies of their filings unless they seek an exemption in accordance with the procedures described below.

To comply with the procedural requirements of E-Filing, at least ten (10) days prior to the filing deadline, the participant should contact the Office of the Secretary by e-mail at hearing.docket@nrc.gov, or by telephone at (301) 415-1677, to request (1) a digital ID certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on NRC's public Web site at http://www.nrc.gov/site-help/e-submittals/apply-certificates.html. System requirements for accessing the E-Submittal server are detailed in NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through EIE, users will be required to install a Web browser plug-in from the NRC Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with NRC guidance available on the NRC public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an e-mail notice confirming receipt of the document. The E-Filing system also distributes an e-mail notice that provides access to the document to the NRC Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC Web site at http://www.nrc.gov/site-help/e-submittals.html, by e-mail at MSHD.Resource@nrc.gov, or by a toll-free call at (866) 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland, 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in NRC's electronic hearing docket which is available to the public at http://ehd.nrc.gov/EHD_Proceeding/home.asp, unless excluded pursuant to an order of the Commission, or the presiding officer. Participants are requested not to include personal privacy information, such as social security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this amendment action, see the application for amendment which is available for public inspection at the Commission's PDR, located at One White Flint North, Public File Area 01F21, 11555 Rockville Pike (first floor), Rockville, Maryland. Publicly available records will be accessible electronically from the ADAMS Public Electronic Reading Room on the Internet at the NRC Web site, http://www.nrc.gov/reading-rm/adams.html. If you do not have access to ADAMS or if there are problems in accessing the documents located in ADAMS, contact the PDR Reference staff at 1-800-397-4209, 301-415-4737, or by e-mail to pdr.resource@nrc.gov.

Calvert Cliffs Nuclear Power Plant, LLC, R. E. Ginna Nuclear Power Plant, LLC, and Nine Mile Point Nuclear Station, LLC, Docket Nos. 50-317, 50-318, 50-244, 50-220, and 50-410, Calvert Cliffs Nuclear Power Plant, Unit Nos. 1 and 2 (CCNPP), R.E. Ginna Nuclear Power Plant (Ginna), Nine Mile Point Nuclear Station, Unit Nos. 1 and 2 (NMPNS), Calvert County, Maryland, Wayne County, New York, and Oswego County, New York, Respectively

Date of amendment request: July 16, 2010.

Description of amendment request: This amendment request contains sensitive unclassified non-safeguards information (SUNSI). The proposed amendments to the Renewed Facility Operating Licenses include: (1) The proposed Cyber Security Plan for CCNPP, Ginna, and NMPNS, (2) an implementation schedule, and (3) a proposed sentence to be added to the existing physical protection license condition for CCNPP, Ginna, and NMPNS requiring the licensee to fully implement and maintain in effect all provisions of the Nuclear Regulatory Commission-approved Cyber Security Plan for CCNPP, Ginna, and NMPNS as required by 10 CFR 73.54. A Federal Register notice dated March 27, 2009, issued the final rule that amended 10 CFR Part 73.54. The regulations in 10 CFR 73.54, “Protection of Digital Computer and Communication Systems and Networks,” establish the requirements for a cyber security program. This regulation specifically requires each licensee currently licensed to operate a nuclear power plant under Part 50 of this chapter to submit a cyber security plan that satisfies the requirements of the Rule. Each submittal must include a proposed implementation schedule, and implementation of the licensee's cyber security program must be consistent with the approved schedule. The background for this application is addressed by the NRC Notice of Availability, Federal Register Notice, Final Rule 10 CFR Part 73, Power Reactor Security Requirements, published on March 27, 2009, 74 FR 13926.

Basis for proposed no significant hazards consideration determination: As required by 10 CFR 50.91(a), the licensee has provided its analysis of the issue of no significant hazards consideration, which is presented below:

1. The proposed change does not involve a significant increase in the probability or consequences of an accident previously evaluated.

The proposed change is required by 10 CFR 73.54. The Cyber Security Plan conforms to the template provided in NEI 08-09, Revision 6, with the exception of the definition of cyber attack, and provides a description of how the requirements of the rule will be implemented at CCNPP, NMPNS and Ginna. The plan establishes the basis for the cyber security program for the three stations.

The proposed Cyber Security Plan does not require any plant modifications, alter the plant configuration, require new plant equipment to be installed, alter accident analysis assumptions, add any initiators, or affect the function of plant systems or the manner in which systems are operated, maintained, modified, tested, or inspected. The plan establishes how to achieve high assurance that nuclear power plant digital computer and communication systems and networks associated with certain systems and functions are adequately protected against cyber attacks. This protective function has no impact on the probability or consequences of an accident previously evaluated.

The proposed change to the license condition in the licenses of CCNPP, NMPNS and Ginna adds a sentence to the existing license condition for physical protection to require implementation and maintenance of the Cyber Security Plan. This change is administrative and has no impact on the probability or consequences of an accident previously evaluated.

Therefore, it is concluded that this change to the CCNPP, NMPNS and Ginna license conditions does not involve a significant increase in the probability or consequences of an accident previously evaluated.

2. The proposed change does not create the possibility of a new or different kind of accident from any accident previously evaluated.

The proposed change is required by 10 CFR 73.54. The Cyber Security Plan conforms to the template provided in NEI 08-09, Revision 6, with the exception of the definition of cyber attack and provides a description of how the requirements of the rule will be implemented at CCNPP, NMPNS and Ginna. The plan establishes the basis for the cyber security program for the three stations.

The proposed Cyber Security Plan does not require any plant modifications, alter the plant configuration, require new plant equipment to be installed, alter accident analysis assumptions, add any initiators, or affect the function of plant systems or the manner in which systems are operated, maintained, modified, tested, or inspected. The plan establishes how to achieve high assurance that nuclear power plant digital computer and communication systems and networks associated with certain systems and functions are adequately protected against cyber attacks. This protective function has no impact on the possibility of a new or different kind of accident from any accident previously evaluated.

The proposed change to the license condition in the licenses of CCNPP, NMPNS and Ginna adds a sentence to the existing license condition for physical protection to require implementation and maintenance of the Cyber Security Plan. This change is administrative and has no impact on the possibility of a new or different kind of accident from any accident previously evaluated.

Therefore, it is concluded that this change to the CCNPP, NMPNS and Ginna license conditions does not create the possibility of a new or different kind of accident from any previously evaluated.

3. The proposed change does not involve a significant reduction in a margin of safety.

The margin of safety in this case is that the implementation of the Cyber Security Plan does not adversely affect systems or equipment important to the operation of the plant.

The proposed change is required by 10 CFR 73.54. The Cyber Security Plan conforms to the template provided in NEI 08-09, Revision 6, with the exception of the definition of cyber attack and provides a description of how the requirements of the rule will be implemented at CCNPP, NMPNS and Ginna. The plan establishes the basis for the cyber security program for the three stations.

The plan establishes the basis for the cyber security program for the three stations and does not require any plant modifications, alter the plant configuration, require new plant equipment to be installed, alter accident analysis assumptions, add any initiators, or affect the function of plant systems or the manner in which systems are operated, maintained, modified, tested, or inspected. The plan establishes how to achieve high assurance that nuclear power plant digital computer and communication systems and networks associated with certain systems and functions are adequately protected against cyber attacks. This protective function has no impact on the operation of vital systems or equipment. Therefore, the implementation of the proposed Cyber Security Plan does not involve a significant reduction in a margin of safety.

The proposed change to the license condition in the licenses of CCNPP, NMPNS and Ginna adds a sentence to the existing license condition for physical protection to require implementation and maintenance of the Cyber Security Plan. This change is administrative and does not involve a significant reduction in a margin of safety.

Therefore, the proposed change to the CCNPP, NMPNS and Ginna license conditions and implementation of the proposed Cyber Security Plan do not create a significant reduction in a margin of safety.

Based on the above, we conclude that the proposed change presents no significant hazards consideration under the standards set forth in 10 CFR 50.92(c), and accordingly, a finding of no significant hazards consideration is justified.

The NRC staff has reviewed the licensee's analysis and, based on this review, it appears that the three standards of 10 CFR 50.92(c) are satisfied. Therefore, the NRC staff proposes to determine that the amendment request involves no significant hazards consideration.

Attorney for licensee: Carey Fleming, Sr. Counsel—Nuclear Generation, Constellation Generation Group, LLC, 750 East Pratt Street, 17th floor, Baltimore, MD 21202.

NRC Branch Chief: Nancy L. Salgado.

Carolina Power and Light Company, Docket Nos. 50-325 and 50-324, Brunswick Steam Electric Plant, Units 1 and 2, Brunswick County, North Carolina

Florida Power Corporation, et al., Docket No. 50-302, Crystal River Unit No. 3 Nuclear Generating Plant, Citrus County, Florida

Carolina Power & Light Company, Docket No. 50-261, H. B. Robinson Steam Electric Plant, Unit No. 2, Darlington County, South Carolina

Carolina Power & Light Company, et al., Docket No. 50-400, Shearon Harris Nuclear Power Plant, Unit 1, Wake and Chatham Counties, North Carolina

Date of amendment request: July 8, 2010.

Description of amendment request: This amendment request contains sensitive unclassified non-safeguards information (SUNSI). The proposed amendments would establish a fleet Cyber Security Plan in conformance with the model Cyber Security Plan contained in Appendix A of Nuclear Energy Institute (NEI) document NEI 08-09, “Cyber Security Plan for Nuclear Power Reactors,” Revision 6, dated April 2010, with one deviation regarding the definition of a Cyber Attack as described in the licensees' letter. The license amendment requests include the Cyber Security Plan, proposed changes to the (Renewed) Facility Operating Licenses (FOLs), and a proposed Cyber Security Plan Implementation Schedule for each facility. The proposed fleet Cyber Security Plan was submitted in accordance with Title 10 of the Code of Federal Regulations, Section 73.54, “Protection of digital computer and communication systems and networks.”

Basis for proposed no significant hazards consideration determination: As required by 10 CFR 50.91(a), the licensees provided their analysis of the issue of no significant hazards consideration, which is presented below:

Criterion 1: The Proposed Change Does Not Involve a Significant Increase in the Probability or Consequences of an Accident Previously Evaluated

The proposed change incorporates a new requirement, in the FOL, to implement and maintain a Cyber Security Plan as part of the facility's overall program for physical protection. The Cyber Security Plan itself does not require any plant modifications. Rather, the Cyber Security Plan describes how the requirements of 10 CFR 73.54 are implemented in order to identify, evaluate, and mitigate cyber attacks up to and including the design basis threat, thereby achieving high assurance that the facility's digital computer and communications systems and networks are protected from cyber attacks. The proposed change requiring the implementation and maintenance of a Cyber Security Plan does not alter the plant configuration, require new plant equipment to be installed, alter accident analysis assumptions, add any accident initiators, or affect the function of plant systems or the manner in which systems are operated, maintained, modified, tested, or inspected; therefore, the inclusion of the Cyber Security Plan as a part of the facility's other physical protection programs specified in the FOL has no impact on the probability or consequences of an accident previously evaluated.

Criterion 2: The Proposed Change Does Not Create the Possibility of a New or Different Kind of Accident From Any Accident Previously Evaluated.

The proposed change incorporates a new requirement, in the FOL, to implement and maintain a Cyber Security Plan as part of the facility's overall program for physical protection. The creation of the possibility of a new or different kind of accident requires creating one or more new accident precursors. New accident precursors may be created by modifications of the plant's configuration, including changes in the allowable modes of operation. The Cyber Security Plan itself does not require any plant modifications, nor does the Cyber Security Plan affect the control parameters governing unit operation or the response of plant equipment to a transient condition. Because the proposed change does not change or introduce any new equipment, modes of system operation, or failure mechanisms, no new accident precursors are created. Therefore, the proposed change does not create the possibility of a new or different kind of accident from any accident previously evaluated.

Criterion 3: The Proposed Change Does Not Involve a Significant Reduction in a Margin of Safety

The proposed change incorporates a new requirement, in the FOL, to implement and maintain a Cyber Security Plan as part of the facility's overall program for physical protection. Plant safety margins are established through Limiting Conditions for Operation, Limiting Safety System Settings and Safety Limits specified in the Technical Specifications. Because the Cyber Security Plan does not require any plant modifications and does not alter the operation of plant equipment, the proposed change does not change established safety margins. Therefore, the proposed change does not involve a significant reduction in a margin of safety.

The NRC staff has reviewed the licensees' analysis and, based on this review, it appears that the three standards of 10 CFR 50.92(c) are satisfied. Therefore, the NRC staff proposes to determine that the amendment requests involve no significant hazards consideration.

Attorney for licensee: David T. Conley, Associate General Counsel II—Legal Department, Progress Energy Service Company, LLC, Post Office Box 1551, Raleigh, North Carolina 27602.

NRC Branch Chief: Douglas A. Broaddus.

Entergy Gulf States Louisiana, LLC, and Entergy Operations, Inc., Docket No. 50-458, River Bend Station, Unit 1, West Feliciana Parish, Louisiana

Date of amendment request: July 22, 2010.

Description of amendment request: This amendment request contains sensitive unclassified non-safeguards information (SUNSI). The proposed amendment would approve the River Bend Station (RBS) Cyber Security Plan, in accordance with 10 CFR 73.54. In addition, the amendment would revise the RBS facility operating license to add a sentence to require the licensee to fully implement and maintain in effect all provisions of the Commission-approved RBS Cyber Security Plan. The proposed change is consistent with Nuclear Energy Institute (NEI) 08-09, Revision 6, “Cyber Security Plan for Nuclear Power Reactors.”

Basis for proposed no significant hazards consideration determination: As required by 10 CFR 50.91(a), the licensee has provided its analysis of the issue of no significant hazards consideration, which is presented below:

1. Does the proposed change involve a significant increase in the probability or consequences of an accident previously evaluated?

Response: No.

As required by 10 CFR 73.54 Entergy has submitted a cyber security plan for NRC review and approval for River Bend Station (RBS). The RBS Cyber Security Plan does not alter accident analysis assumptions, add any initiators, or affect the function of plant systems or the manner in which systems are operated, maintained, modified, tested, or inspected. The RBS Cyber Security Plan does not require any plant modifications which affect the performance capability of the structures, systems, and components relied upon to mitigate the consequences of postulated accidents. The RBS Cyber Security Plan is designed to achieve high assurance that the systems within the scope of the 10 CFR 73.54 Rule are protected from cyber attacks and has no impact on the probability or consequences of an accident previously evaluated.

The second part of the proposed change is an implementation schedule, and the third part adds a sentence to the existing operating license condition for Physical Protection. Both of these changes are administrative in nature and have no impact on the probability or consequences of an accident previously evaluated.

Therefore, the proposed change does not involve a significant increase in the probability or consequences of an accident previously evaluated.

2. Does the proposed change create the possibility of a new or different kind of accident from any accident previously evaluated?

Response: No.

As required by 10 CFR 73.54 Entergy has submitted a cyber security plan for NRC review and approval for RBS. The RBS Cyber Security Plan does not alter accident analysis assumptions, add any initiators, or affect the function of plant systems or the manner in which systems are operated, maintained, modified, tested, or inspected. The RBS Cyber Security Plan does not require any plant modifications which affect the performance capability of the structures, systems, and components relied upon to mitigate the consequences of postulated accidents. The RBS Cyber Security Plan is designed to achieve high assurance that the systems within the scope of the 10 CFR 73.54 Rule are protected from cyber attacks and does not create the possibility of a new or different kind of accident from any accident previously evaluated.

The second part of the proposed change is an implementation schedule, and the third part adds a sentence to the existing operating license condition for Physical Protection. Both of these changes are administrative in nature and do not create the possibility of a new or different kind of accident from any accident previously evaluated.

Therefore, the proposed change does not create the possibility of a new or different kind of accident from any accident previously evaluated.

3. Does the proposed change involve a significant reduction in a margin of safety?

Response: No.

As required by 10 CFR 73.54 Entergy has submitted a cyber security plan for NRC review and approval for RBS. Plant safety margins are established through limiting conditions for operation, limiting safety system settings, and safety limits specified in the technical specifications. Because there is no change to these established safety margins, the proposed change does not involve a significant reduction in a margin of safety.

The second part of the proposed change is an implementation schedule, and the third part adds a sentence to the existing operating license condition for Physical Protection. Both of these changes are administrative in nature and do not involve a significant reduction in a margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Associate General Counsel—Nuclear, Entergy Services, Inc., 639 Loyola Avenue, New Orleans, Louisiana 70113.

NRC Branch Chief: Michael T. Markley.

Entergy Nuclear Operations, Inc., Docket Nos. 50-003, 50-247, and 50-286, Indian Point Nuclear Generating Unit Nos. 1, 2, and 3, Westchester County, New York

Date of amendment request: July 8, 2010.

Description of amendment request: This amendment request contains sensitive unclassified non-safeguards information (SUNSI). The proposed amendment to the Facility Operating Licenses (FOLs) includes: (1) The proposed Cyber Security Plan, (2) an implementation schedule, and (3) a proposed statement to be added to the existing FOL Physical Protection license conditions requiring Entergy to fully implement and maintain in effect all provisions of the Commission-approved Cyber Security Plan as required by 10 CFR 73.54. The Federal Register notice dated March 27, 2009, issued the final rule that amended 10 CFR Part 73. The regulations in 10 CFR 73.54, “Protection of digital computer and communication systems and networks,” establish the requirements for a cyber security program. This regulation specifically requires each licensee currently licensed to operate a nuclear power plant under Part 50 of this chapter to submit a cyber security plan that satisfies the requirements of the Rule. Each submittal must include a proposed implementation schedule, and implementation of the licensee's cyber security program must be consistent with the approved schedule. The background for this application is addressed by the NRC Notice of Availability, Federal Register Notice, Final Rule 10 CFR Part 73, Power Reactor Security Requirements, published on March 27, 2009, 74 FR 13926.

Basis for proposed no significant hazards consideration determination: As required by 10 CFR 50.91(a), the licensee has provided its analysis of the issue of no significant hazards consideration, which is presented below:

1. Does the proposed change involve a significant increase in the probability or consequences of an accident previously evaluated?

Response: No.

As required by 10 CFR 73.54 Entergy has submitted a cyber security plan for NRC review and approval for Indian Point Nuclear Generating Unit Nos. 1, 2, and 3. The Indian Point Energy Center (IPEC) Cyber Security Plan does not require any plant modifications which affect the performance capability of the structures, systems, and components relied upon to mitigate the consequences of postulated accidents. The IPEC Cyber Security Plan does not alter accident analysis assumptions, add any initiators, or affect the function of plant systems or the manner in which systems are operated, maintained, modified, tested, or inspected. The IPEC Cyber Security Plan is designed to achieve high assurance that the systems within the scope of the 10 CFR 73.54 Rule are protected from cyber attacks and has no impact on the probability or consequences of an accident previously evaluated.

The second part of the proposed change is an implementation schedule, and the third part adds a sentence to the existing operating license condition for Physical Protection. Both of these changes are administrative in nature and have no impact on the probability or consequences of an accident previously evaluated.

Therefore, the proposed change does not involve a significant increase in the probability or consequences of an accident previously evaluated.

2. Does the proposed change create the possibility of a new or different kind of accident from any accident previously evaluated?

Response: No.

As required by 10 CFR 73.54 Entergy has submitted a cyber security plan for NRC review and approval for Indian Point Nuclear Generating Unit Nos. 1, 2, and 3. The IPEC Cyber Security Plan does not require any plant modifications which affect the performance capability of the structures, systems, and components relied upon to mitigate the consequences of postulated accidents. The IPEC Cyber Security Plan does not alter accident analysis assumptions, add any initiators, or affect the function of plant systems or the manner in which systems are operated, maintained, modified, tested, or inspected. The IPEC Cyber Security Plan is designed to achieve high assurance that the systems within the scope of the 10 CFR 73.54 Rule are protected from cyber attacks and does not create the possibility of a new or different kind of accident from any accident previously evaluated.

The second part of the proposed change is an implementation schedule, and the third part adds a sentence to the existing operating license condition for Physical Protection. Both of these changes are administrative in nature and do not create the possibility of a new or different kind of accident from any accident previously evaluated.

Therefore, the proposed change does not create the possibility of a new or different kind of accident from any accident previously evaluated.

3. Does the proposed change involve a significant reduction in a margin of safety?

Response: No.

As required by 10 CFR 73.54 Entergy has submitted a cyber security plan for NRC review and approval for Indian Point Nuclear Generating Unit Nos. 1, 2, and 3. Plant safety margins are established through limiting conditions for operation, limiting safety system settings, and safety limits specified in the technical specifications. Because there is no change to these established safety margins as [a] result of the implementation of the IPEC Cyber Security Plan, the proposed change does not involve a significant reduction in a margin of safety.

The second part of the proposed change is an implementation schedule, and the third part adds a sentence to the existing operating license condition for Physical Protection. Both of these changes are administrative in nature and do not involve a significant reduction in a margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. William C. Dennis, Assistant General Counsel, Entergy Nuclear Operations, Inc., 440 Hamilton Avenue, White Plains, NY 10601.

NRC Branch Chief: Nancy L. Salgado.

Entergy Operations, Inc., Docket No. 50-313 and 50-368, Arkansas Nuclear One, Unit Nos. 1 and 2, Pope County, Arkansas

Date of amendment request: July 9, 2010.

Description of amendment request: This amendment request contains sensitive unclassified non-safeguards information (SUNSI). The proposed amendment would approve the Arkansas Nuclear One (ANO), Units 1 and 2 cyber security plan and associated implementation schedule, and revise the physical protection license condition to require the licensee to fully implement and maintain in effect all provisions of the NRC-approved Cyber Security Plan. The proposed change is consistent with Nuclear Energy Institute (NEI) 08-09, Revision 6, “Cyber Security Plan for Nuclear Power Reactors.”

Basis for proposed no significant hazards consideration determination: As required by 10 CFR 50.91(a), the licensee has provided its analysis of the issue of no significant hazards consideration, which is presented below:

1. Does the proposed change involve a significant increase in the probability or consequences of an accident previously evaluated?

Response: No.

As required by 10 CFR 73.54 Entergy has submitted a cyber security plan for NRC review and approval for Arkansas Nuclear One (ANO), Units 1 and 2. The ANO Cyber Security Plan does not alter accident analysis assumptions, add any initiators, or affect the function of plant systems or the manner in which systems are operated, maintained, modified, tested, or inspected. The ANO Cyber Security Plan does not require any plant modifications which affect the performance capability of the structures, systems, and components relied upon to mitigate the consequences of postulated accidents. The ANO Cyber Security Plan is designed to achieve high assurance that the systems within the scope of the 10 CFR 73.54 Rule are protected from cyber attacks and has no impact on the probability or consequences of an accident previously evaluated.

The second part of the proposed change is an implementation schedule, and the third part adds a sentence to the existing operating license condition for Physical Protection. Both of these changes are administrative in nature and have no impact on the probability or consequences of an accident previously evaluated.

Therefore, the proposed change does not involve a significant increase in the probability or consequences of an accident previously evaluated.

2. Does the proposed change create the possibility of a new or different kind of accident from any accident previously evaluated?

Response: No.

As required by 10 CFR 73.54[,] Entergy has submitted a cyber security plan for NRC review and approval for ANO. The ANO Cyber Security Plan does not alter accident analysis assumptions, add any initiators, or affect the function of plant systems or the manner in which systems are operated, maintained, modified, tested, or inspected. The ANO Cyber Security Plan does not require any plant modifications which affect the performance capability of the structures, systems, and components relied upon to mitigate the consequences of postulated accidents. The ANO Cyber Security Plan is designed to achieve high assurance that the systems within the scope of the 10 CFR 73.54 Rule are protected from cyber attacks and does not create the possibility of a new or different kind of accident from any accident previously evaluated.

The second part of the proposed change is an implementation schedule, and the third part adds a sentence to the existing operating license condition for Physical Protection. Both of these changes are administrative in nature and do not create the possibility of a new or different kind of accident from any accident previously evaluated.

Therefore, the proposed change does not create the possibility of a new or different kind of accident from any accident previously evaluated.

3. Does the proposed change involve a significant reduction in a margin of safety?

Response: No.

As required by 10 CFR 73.54[,] Entergy has submitted a cyber security plan for NRC review and approval for ANO. Plant safety margins are established through limiting conditions for operation, limiting safety system settings, and safety limits specified in the technical specifications. Because there is no change to these established safety margins as result of the implementation of the ANO Cyber Security Plan, the proposed change does not involve a significant reduction in a margin of safety.

The second part of the proposed change is an implementation schedule, and the third part adds a sentence to the existing operating license condition for Physical Protection. Both of these changes are administrative in nature and do not involve a significant reduction in a margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Assistant General Counsel—Nuclear, Entergy Services, Inc., 639 Loyola Avenue, New Orleans, Louisiana 70113.

NRC Branch Chief: Michael T. Markley.

Entergy Operations, Inc., Docket No. 50-382, Waterford Steam Electric Station, Unit 3, St. Charles Parish, Louisiana

Date of amendment request: July 15, 2010.

Description of amendment request: This amendment request contains sensitive unclassified non-safeguards information (SUNSI). The proposed amendment would approve the Waterford Steam Electric Station, Unit 3 (Waterford 3) cyber security plan and associated implementation schedule, and revise the physical protection license condition to require the licensee to fully implement and maintain in effect all provisions of the NRC-approved Cyber Security Plan. The proposed change is consistent with Nuclear Energy Institute (NEI) 08-09, Revision 6, “Cyber Security Plan for Nuclear Power Reactors.”

Basis for proposed no significant hazards consideration determination: As required by 10 CFR 50.91(a), the licensee has provided its analysis of the issue of no significant hazards consideration, which is presented below:

1. Does the proposed change involve a significant increase in the probability or consequences of an accident previously evaluated?

Response: No.

As required by 10 CFR 73.54[,] Entergy has submitted a cyber security plan for NRC review and approval for Waterford 3. The Waterford 3 Cyber Security Plan does not require any plant modifications which affect the performance capability of the structures, systems, and components relied upon to mitigate the consequences of postulated accidents. The Waterford 3 Cyber Security Plan does not alter accident analysis assumptions, add any initiators, or affect the function of plant systems or the manner in which systems are operated, maintained, modified, tested, or inspected. The Waterford 3 Cyber Security Plan is designed to achieve high assurance that the systems within the scope of the 10 CFR 73.54 Rule are protected from cyber attacks and has no impact on the probability or consequences of an accident previously evaluated.

The second part of the proposed change is an implementation schedule, and the third part adds a sentence to the existing operating license condition for physical protection. Both of these changes are administrative in nature and have no impact on the probability or consequences of an accident previously evaluated.

Therefore, the proposed change does not involve a significant increase in the probability or consequences of an accident previously evaluated.

2. Does the proposed change create the possibility of a new or different kind of accident from any accident previously evaluated?

Response: No.

As required by 10 CFR 73.54[,] Entergy has submitted a cyber security plan for NRC review and approval for Waterford 3. The Waterford 3 Cyber Security Plan does not require any plant modifications which affect the performance capability of the structures, systems, and components relied upon to mitigate the consequences of postulated accidents. The Waterford 3 Cyber Security Plan does not alter accident analysis assumptions, add any initiators, or affect the function of plant systems or the manner in which systems are operated, maintained, modified, tested, or inspected. The Waterford 3 Cyber Security Plan is designed to achieve high assurance that the systems within the scope of the 10 CFR 73.54 Rule are protected from cyber attacks and does not create the possibility of a new or different kind of accident from any accident previously evaluated.

The second part of the proposed change is an implementation schedule, and the third part adds a sentence to the existing operating license condition for physical protection. Both of these changes are administrative in nature and do not create the possibility of a new or different kind of accident from any accident previously evaluated.

Therefore, the proposed change does not create the possibility of a new or different kind of accident from any accident previously evaluated.

3. Does the proposed change involve a significant reduction in a margin of safety?

Response: No.

As required by 10 CFR 73.54[,] Entergy has submitted a cyber security plan for NRC review and approval for Waterford 3. Plant safety margins are established through limiting conditions for operation, limiting safety system settings, and safety limits specified in the technical specifications. Because there is no change to these established safety margins as result of the implementation of the Waterford 3 Cyber Security Plan, the proposed change does not involve a significant reduction in a margin of safety.

The second part of the proposed change is an implementation schedule, and the third part adds a sentence to the existing operating license condition for physical protection. Both of these changes are administrative in nature and do not involve a significant reduction in a margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Joseph A. Aluise, Assistant General Counsel—Nuclear, Entergy Services, Inc., 639 Loyola Avenue, New Orleans, Louisiana 70113.

NRC Branch Chief: Michael T. Markley.

FirstEnergy Nuclear Operating Company, et al., Docket Nos. 50-334 and 50-412, Beaver Valley Power Station, Unit Nos. 1 and 2, Beaver County, Pennsylvania

Date of amendment request: July 22, 2010.

Description of amendment request: This amendment request contains sensitive unclassified non-safeguards information (SUNSI). The proposed amendment to the Renewed Facility Operating License (FOL) includes: (1) The proposed Beaver Valley Power Station, Unit Nos. 1 and 2 (BVPS-1 and 2) Cyber Security Plan, (2) an implementation schedule, and (3) a proposed sentence to be added to the existing renewed FOL Physical Protection license condition for BVPS-1 and 2 requiring FirstEnergy Nuclear Operating Company (FENOC, the licensee) to fully implement and maintain in effect all provisions of the Commission-approved BVPS-1 and 2 Cyber Security Plan as required by Section 73.54 of Part 73 of Title 10 of the Code of Federal Regulations (10 CFR). Federal Register notice dated March 27, 2009, issued the final rule that amended 10 CFR Part 73. The regulations in 10 CFR 73.54, “Protection of digital computer and communication systems and networks,” establish the requirements for a cyber security program. This regulation specifically requires each licensee currently licensed to operate a nuclear power plant under Part 50 of this chapter to submit a cyber security plan that satisfies the requirements of the Rule. Each submittal must include a proposed implementation schedule and implementation of the licensee's cyber security program must be consistent with the approved schedule. The background for this application is addressed by the Nuclear Regulatory Commission (NRC) Notice of Availability, Federal Register Notice, Final Rule 10 CFR Part 73, Power Reactor Security Requirements, published on March 27, 2009 (74 FR 13926).

Basis for proposed no significant hazards consideration determination: As required by 10 CFR 50.91(a), the licensee has provided its analysis of the issue of no significant hazards consideration, which is presented below:

Criterion 1: The Proposed Change Does Not Involve a Significant Increase in the Probability or Consequences of an Accident Previously Evaluated

The proposed change is required by 10 CFR 73.54 and includes three parts. The first part is the submittal of the Plan for NRC review and approval. The Plan provides a description of how the requirements of the rule will be implemented at the BVPS Unit Nos. 1 and 2. The Plan establishes the licensing basis for the FENOC cyber security program for the BVPS Unit Nos. 1 and 2. The Plan establishes how to achieve high assurance that nuclear power plant digital computer and communication systems and networks associated with the following are adequately protected against cyber attacks up to and including the design basis threat:

1. Safety-related and important-to-safety functions,

2. Security functions,

3. Emergency preparedness functions including offsite communications, and

4. Support systems and equipment which if compromised, would adversely impact safety, security, or emergency preparedness functions.

Part one of the proposed change is designed to achieve high assurance that the systems are protected from cyber attacks. The Plan itself does not require any plant modifications. However, the Plan does describe how plant modifications which involve digital computer systems are reviewed to provide high assurance of adequate protection against cyber attacks, up to and including the design basis threat as defined in the rule. The proposed change does not alter the plant configuration, require new plant equipment to be installed, alter accident analysis assumptions, add any initiators, affect the function of plant systems, or affect the manner in which systems are operated. The first part of the proposed change is designed to achieve high assurance that the systems within the scope of the rule are protected from cyber attacks and has no impact on the probability or consequences of an accident previously evaluated.

The second part of the proposed change is an implementation schedule. The third part adds a sentence to the existing FOL license condition 2.D for BVPS Unit No. 1 and 2.E for BVPS Unit No. 2 for Physical Protection. Both of these changes are administrative and have no impact on the probability or consequences of an accident previously evaluated.

Therefore, it is concluded that this change does not involve a significant increase in the probability or consequences of an accident previously evaluated.

Criterion 2: The Proposed Change Does Not Create the Possibility of a New or Different Kind of Accident From Any Accident Previously Evaluated

The proposed change is required by 10 CFR 73.54 and includes three parts. The first part is the submittal of the Plan for NRC review and approval. The Plan provides a description of how the requirements of the rule will be implemented at the BVPS Unit Nos. 1 and 2. The Plan establishes the licensing basis for the FENOC cyber security program for the BVPS Unit Nos. 1 and 2. The Plan establishes how to achieve high assurance that nuclear power plant digital computer and communication systems and networks associated with the following are adequately protected against cyber attacks up to and including the design basis threat:

1. Safety-related and important-to-safety functions,

2. Security functions,

3. Emergency preparedness functions including offsite communications, and

4. Support systems and equipment which if compromised, would adversely impact safety, security, or emergency preparedness functions.

Part one of the proposed change is designed to achieve high assurance that the systems within the scope of the rule are protected from cyber attacks. The Plan itself does not require any plant modifications. However, the Plan does describe how plant modifications which involve digital computer systems are reviewed to provide high assurance of adequate protection against cyber attacks, up to and including the design basis threat defined in the rule. The proposed change does not alter the plant configuration, require new plant equipment to be installed, alter accident analysis assumptions, add any initiators, affect the function of plant systems, or affect the manner in which systems are operated. The first part of the proposed change is designed to achieve high assurance that the systems within the scope of the rule are protected from cyber attacks and does not create the possibility of a new or different kind of accident from any previously evaluated.

The second part of the proposed change is an implementation schedule. The third part adds a sentence to the existing FOL license condition 2.D for BVPS Unit No. 1 and 2.E for BVPS Unit No. 2 for Physical Protection. Both of these changes are administrative and do not create the possibility of a new or different kind of accident from any previously evaluated.

Therefore, the proposed change does not create the possibility of a new or different kind of accident from any previously evaluated.

Criterion 3: The Proposed Change Does Not Involve a Significant Reduction in a Margin of Safety

The proposed change is required by 10 CFR 73.54 and includes three parts. The first part is the submittal of the Plan for NRC review and approval. The Plan provides a description of how the requirements of the rule will be implemented at the BVPS Unit Nos. 1 and 2. The Plan establishes the licensing basis for the FENOC cyber security program for the BVPS Unit Nos. 1 and 2. The Plan establishes how to achieve high assurance that nuclear power plant digital computer and communication systems and networks associated with the following are adequately protected against cyber attacks up to and including the design basis threat:

1. Safety-related and important-to-safety functions,

2. Security functions,

3. Emergency preparedness functions including offsite communications, and

4. Support systems and equipment which if compromised, would adversely impact safety, security, or emergency preparedness functions.

Part one of the proposed change is designed to achieve high assurance that the systems within the scope of the rule are protected from cyber attacks. Plant safety margins are established through Limiting Conditions for Operation, Limiting Safety System Settings and Safety Limits specified in the Technical Specifications, methods of evaluation that establish design basis or change Updated Final Safety Analysis. Because there is no change to these established safety margins, the proposed change does not involve a significant reduction in a margin of safety.

The second part of the proposed change is an implementation schedule. The third part adds a sentence to the existing FOL license condition 2.D for BVPS Unit No. 1 and 2.E for BVPS Unit No. 2 for Physical Protection. Both of these changes are administrative and do not involve a significant reduction in a margin of safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David W. Jenkins, FirstEnergy Nuclear Operating Company, FirstEnergy Corporation, 76 South Main Street, Akron, OH 44308.

NRC Branch Chief: Nancy L. Salgado.

Florida Power and Light Company, et al., Docket Nos. 50-335 and 50-389, St. Lucie Plant, Unit Nos. 1 and 2, St. Lucie County, Florida

Date of amendment request: August 2, 2010.

Description of amendment request: This amendment request contains sensitive unclassified non-safeguards information (SUNSI). The proposed amendment includes three parts: The proposed Plan, an Implementation Schedule, and a proposed sentence to be added to the existing renewed facility operating licenses (FOL) Physical Protection license condition to require Florida Power and Light Company to fully implement and maintain in effect all provisions of the Commission approved cyber security plan as required by amended 10 CFR Part 73. The proposed Cyber Security Plan was submitted in accordance with Title 10 of the Code of Federal Regulations, Section 73.54, “Protection of digital computer and communication systems and networks.”

Basis for proposed no significant hazards consideration determination: As required by 10 CFR 50.91(a), the licensees provided their analysis of the issue of no significant hazards consideration, which is presented below:

1. Does the proposed change involve a significant increase in the probability or consequences of an accident previously evaluated?

Response: No.

The proposed amendment incorporates a new requirement in the Facility Operating License to implement and maintain a Cyber Security Plan as part of the facility's overall program for physical protection. Inclusion of the Cyber Security Plan in the Facility Operating License itself does not involve any modifications to the safety-related structures, systems or components (SSCs). Rather, the Cyber Security Plan describes how the requirements of 10 CFR 73.54 are to be implemented to identify, evaluate, and mitigate cyber attacks up to and including the design basis cyber attack threat, thereby achieving high assurance that the facility's digital computer and communications systems and networks are protected from cyber attacks. The Cyber Security Plan will not alter previously evaluated Final Safety Analysis Report (FSAR) design basis accident analysis assumptions, add any accident initiators, or affect the function of the plant safety-related SSCs as to how they are operated, maintained, modified, tested, or inspected.

Therefore, the proposed amendment does not involve a significant increase in the probability or consequences of an accident previously evaluated.

2. Does the proposed change create the possibility of a new or different kind of accident from any accident previously evaluated?

Response: No.

The proposed amendment provides assurance that safety-related SSCs are protected from cyber attacks. Implementation of 10 CFR 73.54 and the inclusion of a plan in the Facility Operating License do not result in the need for any new or different FSAR design basis accident analysis, and no new equipment failure modes are created. It does not introduce new equipment that could create a new or different kind of accident, and no new equipment failure modes are created. As a result, no new accident scenarios, failure mechanisms, or limiting single failures are introduced as a result of this proposed amendment.

Therefore, the proposed amendment does not create a possibility for an accident of a new or different type than those previously evaluated.

3. Does the proposed amendment involve a significant reduction in a margin of safety?

Response: No.

The margin of safety is associated with the confidence in the ability of the fission product barriers (i.e., fuel cladding, reactor coolant pressure boundary, and containment structure) to limit the level of radiation to the public. The proposed amendment would not alter the way any safety-related SSC functions and would not alter the way the plant is operated. The amendment provides assurance that safety-related SSCs are protected from cyber attacks. The proposed amendment would not introduce any new uncertainties or change any existing uncertainties associated with any safety limit. The proposed amendment would have no impact on the structural integrity of the fuel cladding, reactor coolant pressure boundary, or containment structure. Based on the above considerations, the proposed amendment would not degrade the confidence in the ability of the fission product barriers to limit the level of radiation to the public.

Therefore, the proposed change does not involve a significant reduction in a margin of safety.

The NRC staff has reviewed the licensees' analysis and, based on this review, it appears that the three standards of 10 CFR 50.92(c) are satisfied. Therefore, the NRC staff proposes to determine that the amendment requests involve no significant hazards consideration.

Attorney for licensee: M.S. Ross, Attorney, Florida Power & Light, P.O. Box 14000, Juno Beach, Florida 33408-0420.

NRC Branch Chief: Douglas A. Broaddus.

Indiana Michigan Power Company, Docket No. 50-315 and 50-316, Donald C. Cook Nuclear Plant (CNP), Units 1 and 2, Berrien County, Michigan

Date of amendment request: July 20, 2010.

Description of amendment request: This amendment request contains sensitive unclassified non-safeguards information (SUNSI). The licensee proposed an amendment to the Renewed Facility Operating Licenses for DCCNP1&2. The licensee requested NRC approval of the CNP Cyber Security Plan, provided a proposed implementation schedule, and proposed to add a sentence to License Condition 2.D, “Physical Protection,” of CNP's Renewed Facility Operating Licenses DPR-58 and DPR-74, respectively, to read as follows: “Indiana Michigan Power Company shall fully implement and maintain in effect all provisions of the Commission-approved Donald C. Cook Nuclear Plant Cyber Security Plan submitted by letter dated July 19, 2010, and withheld from public disclosure in accordance with 10 CFR 2.390.”

Basis for proposed no significant hazards consideration determination: As required by Title 10 of the Code of Federal Regulations (10 CFR) Part 50.91(a), the licensee has provided its analysis of the issue of no significant hazards consideration (NSHC). The NRC staff has performed its own, which is set forth below:

(1) Does the proposed amendment involve a significant increase in the probability or consequences of an accident previously evaluated?

Response: No.

The proposed amendment incorporates new requirements in the Renewed Facility Operating Licenses to implement and maintain a Cyber Security Plan (Plan) as part of the facilities' overall program for physical protection. Inclusion of the Plan in the Renewed FOLs itself does not involve any modifications to the safety-related structures, systems or components (SSCs). Rather, the Plan describes how the requirements of 10 CFR 73.54 are to be implemented to identify, evaluate, and mitigate cyber attacks up to and including the design-basis cyber attack threat, thereby achieving high assurance that the facilities' digital computer and communications systems and networks are protected from cyber attacks. The Plan and any plant modifications will not alter previously evaluated Updated Final Safety Analysis Report (UFSAR) design-basis accident analysis assumptions, add any accident initiators, or affect the function of the plant safety-related SSCs as to how they are operated, maintained, modified, tested, or inspected. Therefore, the proposed amendment does not involve a significant increase in the probability or consequences of an accident previously evaluated.

(2) Does the proposed amendment create the possibility of a new or different kind of accident from any accident previously evaluated?

Response: No.

The proposed amendment provides assurance that safety-related SSCs are protected from cyber attacks. Implementation of 10 CFR 73.54 and the inclusion of a Plan in the Renewed FOLs do not result in the need of any new or different USAR design-basis accident analysis. It does not introduce new equipment that could create a new or different kind of accident, and no new equipment failure modes are created. As a result, no new accident scenarios, failure mechanisms, or limiting single failures are introduced as a result of these proposed amendments. Therefore, the proposed amendment does not create a possibility for an accident of a new or different type than those previously evaluated.

(3) Does the proposed amendment involve a significant reduction in a margin of safety?

Response: No.

The margin of safety is associated with the confidence in the ability of the fission product barriers (i.e., fuel cladding, reactor coolant pressure boundary, and containment structure) to limit the level of radiation to the public. The proposed amendment would not alter the way any safety-related SSC functions and would not alter the way the units are operated. This amendment provides assurance that safety-related SSCs are protected from cyber attacks. The proposed amendment would not introduce any new uncertainties or change any existing uncertainties associated with any safety limit. The proposed amendment would have no impact on the structural integrity of the fuel cladding, reactor coolant pressure boundary, or containment structure. Based on the above considerations, the proposed amendment would not degrade the confidence in the ability of the fission product barriers to limit the level of radiation to the public. Therefore, the proposed amendment does not involve a significant reduction in a margin of safety.

The NRC staff has reviewed the licensee's analysis and, based on the NRC staff's own analysis, it appears that the three standards of 10 CFR 50.92(c) are satisfied. Therefore, the NRC staff proposes to determine that the proposed amendment involves no significant hazards consideration.

Attorney for licensee: James M. Petro, Jr., Senior Nuclear Counsel, Indiana Michigan Power Company, One Cook Place, Bridgman, MI 49106.

NRC Branch Chief: Robert J. Pascarelli.

Luminant Generation Company LLC,, Docket Nos. 50-445 and 50-446, Comanche Peak Nuclear Power Plant, Units 1 and 2, Somervell County, Texas

Date of amendment request: July 15, 2010.

Description of amendment request: This amendment request contains sensitive unclassified non-safeguards information (SUNSI). The proposed amendment would approve the Cyber Security Plan for Comanche Peak Nuclear Power Plant (CPNPP), Units 1 and 2, in accordance with 10 CFR Section 73.54. In addition, the amendment would revise Renewed Facility Operating License Nos. NPF-87 and NPF-89 for Units 1 and 2, respectively, to add a sentence to the existing Physical Protection license condition to require CPNPP to fully implement and maintain in effect all provisions of the Commission-approved Cyber Security Plan. The proposed change is consistent with Nuclear Energy Institute (NEI) 08-09, Revision 6, “Cyber Security Plan for Nuclear Power Reactors.”

Basis for proposed no significant hazards consideration determination: As required by 10 CFR 50.91(a), the licensee has provided its analysis of the issue of no significant hazards consideration, which is presented below:

1. Do the proposed changes involve a significant increase in the probability or consequences of an accident previously evaluated?

Response: No.

The proposed amendment incorporates a new requirement in the Facility Operating License (FOL) to implement and maintain a Cyber Security Plan as part of the facility's overall program for physical protection. Inclusion of the Cyber Security Plan in the FOL itself does not involve any modifications to the safety-related structures, systems or components (SSCs). Rather, the Cyber Security Plan describes how the requirements of 10 CFR 73.54 are to be implemented to identify, evaluate, and mitigate cyber attacks up to and including the design basis cyber attack threat, thereby achieving high assurance that the facility's digital computer and communications systems and networks are protected from cyber attacks. The addition of the Cyber Security Plan to the Physical Security Plan will not alter previously evaluated [F]inal Safety Analysis Report (FSAR) design basis accident analysis assumptions, add any accident initiators, or affect the function of the plant safety-related SSCs as to how they are operated, maintained, modified, tested, or inspected.

Therefore, the proposed changes do not involve a significant increase in the probability or consequences of an accident previously evaluated.

2. Do the proposed changes create the possibility of a new or different kind of accident from any accident previously evaluated?

Response: No.

This proposed amendment provides assurance that safety-related SSCs are protected from cyber attacks. Implementation of 10 CFR 73.54 and the inclusion of a plan in the FOL do not result in the need of any new or different FSAR design basis accident analysis. It does not introduce new equipment that could create a new or different kind of accident, and no new equipment failure modes are created. As a result, no new accident scenarios, failure mechanisms, or limiting single failures are introduced as a result of this proposed amendment.

Therefore, the proposed change does not create the possibility of a new or different kind of accident from any previously evaluated.

3. Do the proposed changes involve a significant reduction in a margin of safety?

Response: No.

The margin of safety is associated with the confidence in the ability of the fission product barriers (i.e., fuel cladding, reactor coolant pressure boundary, and containment structure) to limit the level of radiation to the public. The proposed amendment would not alter the way any safety-related SSC functions and would not alter the way the plant is operated. The amendment provides assurance that safety-related SSCs are protected from cyber attacks. The proposed amendment would not introduce any new uncertainties or change any existing uncertainties associated with any safety limit. The proposed amendment would have no impact on the structural integrity of the fuel cladding, reactor coolant pressure boundary, or containment structure. Based on the above considerations, the proposed amendment would not degrade the confidence in the ability of the fission product barriers to limit the level of radiation to the public. Therefore, the proposed change does not involve a significant reduction in a margin of safety.

Therefore the proposed change does not involve a reduction in a margin of safety.

The NRC staff has reviewed the licensee's analysis and, based on this review, it appears that the three standards of 10 CFR 50.92(c) are satisfied. Therefore, the NRC staff proposes to determine that the amendment request involves no significant hazards consideration.

Attorney for licensee: Timothy P. Matthews, Esq., Morgan, Lewis and Bockius, 1800 M Street, NW., Washington, DC 20036.

NRC Branch Chief: Michael T. Markley.

Nebraska Public Power District, Docket No. 50-298, Cooper Nuclear Station, Nemaha County, Nebraska

Date of amendment request: July 20, 2010.

Description of amendment request: This amendment request contains sensitive unclassified non-safeguards information (SUNSI). The proposed amendment would approve the cyber security plan and implementation schedule, and revise the license condition regarding physical protection to require the licensee to fully implement and maintain in effect all provisions of the NRC-approved cyber security plan.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment incorporates a new requirement in the FOL [facility operating license] to implement and maintain a Cyber Security Plan as part of the facility's overall program for physical protection. Inclusion of the Plan in the FOL itself does not involve any modifications to safety-related structures, systems or components (SSCs). Rather, the Plan describes how the requirements of 10 CFR 73.54 are to be implemented to identify, evaluate, and mitigate cyber attacks up to and including the design basis threat, thereby achieving a high assurance that the facility's digital computer and communications systems and networks are protected from cyber attacks. The Plan and any associated plant modifications will not alter previously evaluated design basis accident analysis assumptions, add any accident initiators, or affect the capability of SSCs to perform their design function.

Therefore, the proposed amendment does not involve a significant increase in the probability or consequences of an accident previously evaluated.

2. Does the proposed amendment create the possibility of a new or different kind of accident from any accident previously evaluated?

Response: No.

The proposed amendment provides assurance that safety-related SSCs are protected from cyber attacks. Implementation of 10 CFR 73.54 and the inclusion of a Cyber Security Plan in the FOL do not result in the need for any new or different design basis accident analysis. It does not introduce new equipment that could create a new or different kind of accident, and no new equipment failure modes are created. As a result, no new accident scenarios, failure mechanisms, or limiting single failures are introduced as a result of this proposed amendment.

Therefore, the proposed amendment does not create a possibility for an accident of a new or different type than those previously evaluated.

3. Does the proposed amendment involve a significant reduction in a margin of safety?

Response: No.

The margin of safety is associated with the ability of the fission product barriers (i.e., fuel cladding, reactor coolant pressure boundary, and containment structure) to limit the level of radiation to the public. The proposed amendment will not alter the way any safety-related SSC functions and will not alter the way the plant is operated. The amendment provides assurance that safety-related SSCs are protected from cyber attacks. The proposed amendment will not introduce any new uncertainties or change any existing uncertainties associated with any safety limit. The proposed amendment has no impact on the structural integrity of the fuel cladding, reactor coolant pressure boundary, or containment structure. Based on the above considerations, the proposed amendment will not degrade the ability of the fission product barriers to limit the level of radiation to the public.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. John C. McClure, Nebraska Public Power District, Post Office Box 499, Columbus, NE 68602-0499.

NRC Branch Chief: Michael T. Markley.

NextEra Energy Point Beach, LLC (the licensee), Docket Nos. 50-266 and 50-301, Point Beach Nuclear Plant (PBNP), Units 1 and 2, Town of Two Creeks, Manitowac County, Wisconsin

Date of amendment request: December 8, 2008, as supplemented by letters dated.

January 16, January 27, February 20, April 17 (two letters), May 8, May 15, June 1, July 24, August 20, September 4 (two letters), September 10, October 2, November 20, November 25, and December 17 of 2009; and January 14, February 4 (two letters), March 5, April 20, July 8, July 29, August 12, and September 3 of 2010.

Description of amendment request: This amendment request contains sensitive unclassified non-safeguards information (SUNSI). The proposed amendment would revise the PBNP Units 1 and 2 current licensing bases to implement the alternate source term (AST) through reanalysis of the radiological consequences of the Final Safety Analysis Report (FSAR) Chapter 14 accidents. The following technical specifications (TS) are requested to be modified:

TS 1.1 will be reduced from 0.4 percent of containment air weight per day to 0.2 percent of containment air weight per day at peak design containment pressure.

Surveillance Requirement (SR) 3.4.16.2 will be revised to change the specific activity of the reactor coolant from [dose equivalent iodine] DEI-131 less than or equal to 0.8 microCurie per gram (μCi/gm) to less than or equal to 0.5 μCi/gm.

TS 3.7.9 will be modified to address Technical Specification Task Force (TSTF) Traveler TSTF-448, Revision 3, Control Room Habitability, and joint NRC and industry guidance regarding control room habitability.

SR 3.7.9.3 and SR 3.7.9.6 will be revised to delete the word “makeup.”

TS 3.7.13 will be revised to change the specific activity of the secondary coolant from less than or equal to 1.00 μCi/gm to less than or equal to 0.1 μCi/gm DEI-131.

TS 3.7.14, “Primary Auxiliary Building Ventilation (VNPAB),” will be added to the technical specifications as a result of the VNPAB system exhaust function being credited in the AST Loss of Coolant Accident (LOCA) Emergency Core Cooling System (ECCS) leakage analysis.

TS 5.5.15c will be revised to change the maximum allowable containment leakage rate, from 0.4 percent to 0.2 percent of containment air weight per day.

TS 5.5.18, “Control Room Envelope Habitability Program,” will be added to address AST-related commitments.

TS 5.6.4 will add WCAP-16259-P-A “Westinghouse Methodology for Application of 3-D Transient Neutronics to Non-LOCA Analyses” to the list of approved analytical methods.

Basis for proposed no significant hazards consideration determination: As required by 10 CFR 50.91(a), the licensee has provided its analysis of the issue of no significant hazards consideration which is presented below:

1. Does the proposed amendment involve a significant increase in the probability or consequences of an accident previously evaluated?

Response: No.

The results of the applicable radiological design-basis accident (DBA) re-evaluation demonstrated that, with the requested changes, the dose consequences of these limiting events are within the regulatory limits and guidance provided by the NRC in 10 CFR 50.67 and [Regulatory Guide] RG 1.183, “Alternative Radiological Source Terms for Evaluating Design Basis Accidents at Nuclear Power Plants,” July 2000, for the AST methodology. The AST is an input to calculations used to evaluate the consequences of an accident and does not by itself affect the plant response or the actual pathway of the activity released from the fuel. It does, however, better represent the physical characteristics of the release, such that appropriate mitigation techniques may be applied.

The change from the original source term to the new proposed AST is a change in the analysis method and assumptions and has no effect on the probability of occurrence of previously analyzed accidents. Use of an AST to analyze the dose effect of DBAs shows that regulatory acceptance criteria for the new methodology continues to be met. The dose consequences in the control room (CR), the exclusion area boundary, and the low population zone (LPZ) do not exceed the regulatory limits provided by the NRC in 10 CFR 50.67 and Regulatory Guide 1.183 for the AST methodology.

For the locked rotor (LR) event, an NRC approved methodology RAVE (Westinghouse WCAP-16259-P-A, “Westinghouse Methodology for Application of 3-D Transient Neutronics to Non-LOCA Accident Analysis,”) is used to determine rods in [departure from nucleate boiling] DNB. The use of an NRC approved methodology provides an input assumption to the radiological dose consequences calculations. The use of the new methodology does not change the sequence or progression of the accident scenario.

The proposed TS changes reflect the plant configuration that is required to implement the AST analyses. The equipment affected by the proposed changes is mitigating in nature and relied upon after an accident has been initiated. The operation of various filtration systems, the residual heat removal (RHR) and the containment spray (CS) systems, including associated support systems, has been considered in the evaluations of these proposed changes. The operation of this equipment has been evaluated for emergency diesel generator loading and fuel consumption. The evaluation demonstrated that the diesel generator loading and fuel consumption do not exceed the diesel generator criteria. While the operation of these systems does change with the implementation of an AST, the affected systems are not accident initiators, and application of the AST methodology itself is not an initiator of a DBA.

The operation of containment spray on sump recirculation has been evaluated for increased strainer blockage or reduction in flow from the sump. The evaluation demonstrated that the increase in containment spray will not adversely affect the operation of the emergency core cooling systems during the sump recirculation phase of a DBA.

The VNPAB exhaust is relied upon after an accident has been initiated to provide the AST LOCA ECCS equipment leakage activity release location for the control room dose calculation. The results of the LOCA radiological analysis demonstrate that while operating the VNPAB exhaust system, as supported by the proposed TS, the dose consequences of this limiting event are within the regulatory limits and guidance provided by the NRC in 10 CFR 50.67 and RG 1.183.

The Control Room Envelope Habitability Program adds administrative controls to the TSs ensuring control room habitability with an operable control room emergency filtration system (CREFS). The proposed TS changes, including a new habitability program and additional testing, produce more stringent TS requirements than the existing TSs, enhancing the protection of control room occupants.

Therefore, the proposed changes do not involve a significant increase in the probability or consequences of an accident previously evaluated.

2. Does the proposed amendment create the possibility of a new or different kind of accident from any accident previously evaluated?

Response: No.

The changes proposed in this license amendment request involve the use of a new analysis methodology and related regulatory acceptance criteria. The proposed TS changes reflect the plant configuration that is required to implement the AST analyses. No new or different accidents result from utilizing the proposed changes. Although the proposed changes require modifications to the [control room ventilation system] VNCR system, as well as modifications to the RHR system and CS system, the changes will not create a new or different kind of accident since they are related to system capabilities that provide protection from accidents that have already occurred. The operation of this equipment has been evaluated for emergency diesel generator loading and fuel consumption. The evaluation demonstrated that the diesel generator loading and fuel consumption do not exceed the diesel generator criteria.

The operation of containment spray on sump recirculation has been evaluated for increased strainer blockage or reduction in flow from the sump. The evaluation demonstrated that the increase in containment spray will not adversely affect the operation of the emergency core cooling systems during the sump recirculation phase of a DBA.

As a result, no new failure modes are being introduced that could lead to different accidents. These changes do not alter the nature of events postulated in the FSAR nor do they introduce any unique precursor mechanisms.

For the LR event, an NRC approved methodology RAVE (Westinghouse WCAP-16259-P-A, “Westinghouse Methodology for Application of 3-D Transient Neutronics to Non-LOCA Accident Analysis,”) is used to determine rods in DNB. The use of an NRC approved methodology provides an input assumption to the radiological dose consequences calculations. The use of the new methodology does not alter the nature of events postulated in the FSAR nor do they introduce any unique precursor mechanisms.

The proposed VNPAB TS reflects the plant configuration that is required to implement the AST analyses, and no new or different accidents result from utilizing the proposed changes. The LOCA control room dose analysis assumes that the ECCS equipment leakage activity release pathway X/Q to be at the location of the primary auxiliary building vent stack. Operation of the VNPAB exhaust fans assures this release point. The VNPAB system operates during normal unit operation.

No new or different kinds of accidents result from performance of the revised TS surveillances or from the addition of the Control Room Envelope Habitability Program. The proposed changes do not involve a physical alteration of the CREFS or a significant change in the methods governing normal plant operation. The proposed TS changes, including a new habitability program and additional testing, produce more stringent TS requirements than the existing TSs, enhancing the protection of control room occupants.

Therefore, the proposed changes do not create the possibility of a new or different type of accident from any accident previously evaluated.

3. Does the proposed amendment involve a significant reduction in a margin of safety?

Response: No.

The changes proposed in this license amendment involve the use of a new analysis methodology and related regulatory acceptance criteria. The proposed TS changes reflect the plant configuration that is required to implement the AST analyses. Safety margins and analytical conservatisms have been evaluated and have been found to be acceptable. The analyzed events have been carefully selected and, with plant modifications, no significant reduction of margin has occurred and analyses adequately bound postulated event scenarios. The proposed changes continue to ensure that the dose consequences of DBAs at the exclusion area and LPZ boundaries and in the CR are within the corresponding acceptance criteria presented in RG 1.183 and 10 CFR 50.67. The margin of safety for the radiological consequences of these accidents is provided by meeting the applicable regulatory limits, which are set at or below the 10 CFR 50.67 limits. An acceptable margin of safety is inherent in these limits.

For the LR event, an NRC approved methodology RAVE (Westinghouse WCAP-16259-P-A, “Westinghouse Methodology for Application of 3-D Transient Neutronics to Non-LOCA Accident Analysis,”) is used to determine rods in DNB. The use of an NRC approved methodology provides an input assumption to the radiological dose consequences calculations. The use of the new methodology does not reduce any margins of safety for the LR event; therefore, the proposed change does not involve a significant reduction in a margin of safety.

The proposed VNPAB TS reflects the plant configuration that is required to implement the AST analyses. The VNPAB assures the proper X/Q for airborne radiological protection for control room personnel, as demonstrated by the control room dose analyses for the LOCA. Safety margins and analytical conservatisms have been evaluated and have been found to be acceptable. The proposed changes ensure that the dose consequences in the control room due to the DBA LOCA are within the acceptance criteria presented in 10 CFR 50.67. The margin of safety for the radiological consequences of these accidents is provided by meeting the regulatory limit.

The proposed changes do not alter the manner in which safety limits, limiting safety system settings, or limiting conditions for operation are determined. The proposed changes do not affect safety analysis criteria, and will not result in plant operation in a configuration outside the design basis for an unacceptable period of time without compensatory measures. The proposed TS changes, including a new habitability program and additional testing, produce more stringent TS requirements than the existing TSs, enhancing the protection of control room occupants.

Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: William Blair, Senior Attorney, NextEra Energy Point Beach, LLC, P. O. Box 14000, Juno Beach, FL 33408-0420.

NRC Branch Chief: Robert J. Pascarelli.

Northern States Power Company—Minnesota (NSPM), Docket No. 50-263, Monticello Nuclear Generating Plant (MNGP), Wright County, Minnesota

Date of amendment request: July 20, 2010.

Description of amendment request: This amendment request contains sensitive unclassified non-safeguards information (SUNSI). The licensee proposed an amendment to the Renewed Facility Operating Licenses for MNGP and Prairie Island Nuclear Generating Plant (PINGP); this notice only addresses the application as it pertains to MNGP. The licensee requested NRC approval of the NSPM Cyber Security Plan, provided a proposed implementation schedule, and proposed to add a sentence to License Condition 2.C.3, “Physical Protection,” of MNGP's Renewed Facility Operating License DPR-22 to read as follows: “NSPM shall fully implement and maintain in effect all provisions of the Commission-approved NSPM Cyber Security Plan by December 1, 2014.”

Basis for proposed no significant hazards consideration determination: As required by Title 10 of the Code of Federal Regulations (10 CFR) Part 50.91(a), the licensee has provided its analysis of the issue of no significant hazards consideration (NSHC). The licensee's NSHC analysis, written for both MNGP and PINGP, addressing each issue described above, is reproduced below:

1. Does the proposed amendment involve a significant increase in the probability or consequences of an accident previously evaluated?

Response: No

The proposed amendments incorporate new requirements in the [Renewed] Facility Operating Licenses (FOLs) to implement and maintain a Cyber Security Plan (Plan) as part of the facilities' overall program for physical protection. Inclusion of the Plan in the FOLs itself does not involve any modifications to the safety-related structures, systems or components (SSCs). Rather, the Plan describes how the requirements of 10 CFR 73.54 are to be implemented to identify, evaluate, and mitigate cyber attacks up to and including the design basis cyber attack threat, thereby achieving high assurance that the facilities' digital computer and communications systems and networks are protected from cyber attacks. The Plan and any plant modifications will not alter previously evaluated Updated Safety Analysis Report (USAR) design basis accident analysis assumptions, add any accident initiators, or affect the function of the plant safety-related SSCs as to how they are operated, maintained, modified, tested, or inspected. Therefore, the proposed amendments do not involve a significant increase in the probability or consequences of an accident previously evaluated.

2. Does the proposed amendment create the possibility of a new or different kind of accident from any accident previously evaluated?

Response: No

The proposed amendments provide assurance that safety-related SSCs are protected from cyber attacks. Implementation of 10 CFR 73.54 and the inclusion of a Plan in the FOLs do not result in the need of any new or different USAR design basis accident analysis. It does not introduce new equipment that could create a new or different kind of accident, and no new equipment failure modes are created. As a result, no new accident scenarios, failure mechanisms, or limiting single failures are introduced as a result of these proposed amendments. Therefore, the proposed amendments do not create a possibility for an accident of a new or different type than those previously evaluated.

3. Does the proposed amendment involve a significant reduction in a margin of safety?

Response: No.

The margin of safety is associated with the confidence in the ability of the fission product barriers (i.e., fuel cladding, reactor coolant pressure boundary, and containment structure) to limit the level of radiation to the public. The proposed amendments would not alter the way any safety-related SSC functions and would not alter the way the plants are operated. These amendments provide assurance that safety-related SSCs are protected from cyber attacks. The proposed amendments would not introduce any new uncertainties or change any existing uncertainties associated with any safety limit. The proposed amendments would have no impact on the structural integrity of the fuel cladding, reactor coolant pressure boundary, or containment structure. Based on the above considerations, the proposed amendments would not degrade the confidence in the ability of the fission product barriers to limit the level of radiation to the public.

Therefore, the proposed amendments do not involve a significant reduction in a margin of safety.

The NRC staff has reviewed the licensee's analysis and, based on this review, it appears that the three standards of 10 CFR 50.92(c) are satisfied. Therefore, the NRC staff proposes to determine that the proposed amendment involves no significant hazards consideration.

Attorney for licensee: Peter M. Glass, Assistant General Counsel, Xcel Energy Services, Inc., 414 Nicollet Mall, Minneapolis, MN 55401.

NRC Branch Chief: Robert J. Pascarelli.

Northern States Power Company—Minnesota (NSPM), Docket Nos. 50-282 and 50-306, Prairie Island Nuclear Generating Plant (PINGP), Units 1 and 2, Goodhue County, Minnesota

Date of amendment request: July 20, 2010.

Description of amendment request: This amendment request contains sensitive unclassified non-safeguards information (SUNSI). The licensee proposed an amendment to the Facility Operating Licenses for PINGP, Units 1 and 2, and the Renewed Facility Operating License for Monticello Nuclear Generating Plant (MNGP); this notice only addresses the application as it pertains to PINGP, Units 1 and 2. The licensee requested NRC approval of the NSPM Cyber Security Plan, provided a proposed Implementation Schedule, and proposed to add a sentence to License Condition 2.C.(3), “Physical Protection,” of PINGP's Facility Operating Licenses DPR-42 and DPR-60 to read as follows: “NSPM shall fully implement and maintain in effect all provisions of the Commission-approved NSPM Cyber Security Plan by December 1, 2014.”

Basis for proposed no significant hazards consideration determination: As required by Title 10 of the Code of Federal Regulations (10 CFR) Part 50.91(a), the licensee has provided its analysis of the issue of no significant hazards consideration (NSHC). The licensee's NSHC analysis, written for both MNGP and PINGP, addressing each issue described above, is reproduced below:

1. Does the proposed amendment involve a significant increase in the probability or consequences of an accident previously evaluated?

Response: No.

The proposed amendments incorporate new requirements in the Facility Operating Licenses (FOLs) to implement and maintain a Cyber Security Plan (Plan) as part of the facilities' overall program for physical protection. Inclusion of the Plan in the FOLs itself does not involve any modifications to the safety-related structures, systems or components (SSCs). Rather, the Plan describes how the requirements of 10 CFR 73.54 are to be implemented to identify, evaluate, and mitigate cyber attacks up to and including the design basis cyber attack threat, thereby achieving high assurance that the facilities' digital computer and communications systems and networks are protected from cyber attacks. The Plan and any plant modifications will not alter previously evaluated Updated Safety Analysis Report (USAR) design basis accident analysis assumptions, add any accident initiators, or affect the function of the plant safety-related SSCs as to how they are operated, maintained, modified, tested, or inspected.

Therefore, the proposed amendments do not involve a significant increase in the probability or consequences of an accident previously evaluated.

2. Does the proposed amendment create the possibility of a new or different kind of accident from any accident previously evaluated?

Response: No.

The proposed amendments provide assurance that safety-related SSCs are protected from cyber attacks. Implementation of 10 CFR 73.54 and the inclusion of a Plan in the FOLs do not result in the need of any new or different USAR design basis accident analysis. It does not introduce new equipment that could create a new or different kind of accident, and no new equipment failure modes are created. As a result, no new accident scenarios, failure mechanisms, or limiting single failures are introduced as a result of these proposed amendments.

Therefore, the proposed amendments do not create a possibility for an accident of a new or different type than those previously evaluated.

3. Does the proposed amendment involve a significant reduction in a margin of safety?

Response: No.

The margin of safety is associated with the confidence in the ability of the fission product barriers (i.e., fuel cladding, reactor coolant pressure boundary, and containment structure) to limit the level of radiation to the public. The proposed amendments would not alter the way any safety-related SSC functions and would not alter the way the plants are operated. These amendments provide assurance that safety-related SSCs are protected from cyber attacks. The proposed amendments would not introduce any new uncertainties or change any existing uncertainties associated with any safety limit. The proposed amendments would have no impact on the structural integrity of the fuel cladding, reactor coolant pressure boundary, or containment structure. Based on the above considerations, the proposed amendments would not degrade the confidence in the ability of the fission product barriers to limit the level of radiation to the public.

Therefore, the proposed amendments do not involve a significant reduction in a margin of safety.

The NRC staff has reviewed the licensee's analysis and, based on this review, it appears that the three standards of 10 CFR 50.92(c) are satisfied. Therefore, the NRC staff proposes to determine that the proposed amendment involves no significant hazards consideration.

Attorney for licensee: Peter M. Glass, Assistant General Counsel, Xcel Energy Services, Inc., 414 Nicollet Mall, Minneapolis, MN 55401.

NRC Branch Chief: Robert J. Pascarelli.

Pacific Gas and Electric Company, Docket Nos. 50-275 and 50-323, Diablo Canyon Nuclear Power Plant, Unit Nos. 1 and 2, San Luis Obispo County, California

Date of amendment request: July 22, 2010.

Description of amendment request: This amendment request contains sensitive unclassified non-safeguards information (SUNSI). The proposed amendment would approve the Diablo Canyon Power Plant, Units 1 and 2 (DCPP), Cyber Security Plan, in accordance with 10 CFR 73.54. In addition, the amendment would revise the DCPP Facility Operating License Nos. DPR-80 and DPR 82, respectively, for Units 1 and 2, to add a sentence to require the licensee to fully implement and maintain in effect all provisions of the Commission-approved DCPP Cyber Security Plan. The proposed change is consistent with Nuclear Energy Institute (NEI) 08-09, Revision 6, “Cyber Security Plan for Nuclear Power Reactors.”

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment incorporates a new requirement in the Facility Operating License (FOL) to implement and maintain a Cyber Security Plan (Plan) as part of the facility's overall program for physical protection. Inclusion of the Cyber Security Plan in the FOL itself does not involve any modifications to the safety-related structures, systems or components (SSCs). Rather, the Cyber Security Plan describes how the requirements of 10 CFR 73.54 are to be implemented to identify, evaluate, and mitigate cyber attacks up to and including the design basis cyber attack threat, thereby achieving high assurance that the facility's digital computer and communications systems and networks are protected from cyber attacks. The Plan will not alter previously evaluated Final Safety Analysis Report (FSAR) design basis accident analysis assumptions, add any accident initiators, or affect the function of the plant safety-related SSCs as to how they are operated, maintained, modified, tested, or inspected. Any plant modifications necessary to implement the Plan will be evaluated pursuant to 10 CFR 50.59 to assure they will not alter previously evaluated FSAR design basis accident analysis assumptions, add any accident initiators, or affect the function of the plant safety-related SSCs as to how they are operated, maintained, modified, tested, or inspected. Further amendments to the operating licenses will be pursued as necessary based on the results of these evaluations.

Therefore, the proposed amendment does not involve a significant increase in the probability or consequences of an accident previously evaluated.

2. Does the proposed amendment create the possibility of a new or different accident from any accident previously evaluated?

Response: No.

This proposed amendment provides assurance that safety-related SSCs are protected from cyber attacks. Implementation of 10 CFR 73.54 and the inclusion of a plan in the FOL do not result in the need of any new or different FSAR design basis accident analysis. As noted in response to question 1, any plant modifications necessary to implement the Plan will be evaluated pursuant to 10 CFR 50.59 to assure they do not introduce new equipment that could create a new or different kind of accident, and no new equipment failure modes are created. Further amendments to the operating licenses will be pursued as necessary based on the results of these evaluations.

As a result, no new accident scenarios, failure mechanisms, or limiting single failures will be introduced as a result of this proposed amendment.

Therefore, the proposed change does not create the possibility of a new or different accident from any accident previously evaluated.

3. Does the proposed amendment involve a significant reduction in a margin of safety?

Response: No.

The margin of safety is associated with the confidence in the ability of the fission product barriers (i.e., fuel cladding, reactor coolant pressure boundary, and containment structure) to limit the level of radiation to the public. The proposed amendment would not alter the way any safety-related SSC functions and would not alter the way the plant is operated. The amendment provides assurance that safety-related SSCs are protected from cyber attacks. The proposed amendment would not introduce any new uncertainties or change any existing uncertainties associated with any safety limit. The proposed amendment would have no impact on the structural integrity of the fuel cladding, reactor coolant pressure boundary, or containment structure. Based on the above considerations, the proposed amendment would not degrade the confidence in the ability of the fission product barriers to limit the level of radiation to the public.

Therefore, the proposed change does not involve a significant reduction in a margin of safety.

The NRC staff has reviewed the licensee's analysis and, based on this review, it appears that the three standards of 10 CFR 50.92(c) are satisfied. Therefore, the NRC staff proposes to determine that the amendment requests involve no significant hazards consideration.

Attorney for licensee: Jennifer Post, Esq., Pacific Gas and Electric Company, P.O. Box 7442, San Francisco, California 94120.

NRC Branch Chief: Michael T. Markley.

PPL Susquehanna, LLC, Docket Nos. 50-387 and 50-388, Susquehanna Steam Electric Station (SSES), Units 1 and 2, Luzerne County, Pennsylvania

Date of amendment request: July 22, 2010.

Description of amendment request: This amendment request contains sensitive unclassified non-safeguards information (SUNSI). The proposed amendment to the Renewed Facility Operating License (FOL) includes: (1) The proposed SSES Units 1 and 2 Cyber Security Plan, (2) an implementation schedule, and (3) a proposed sentence to be added to the existing renewed FOL Physical Protection license condition for SSES Units 1 and 2 requiring PPL Susquehanna, LLC to fully implement and maintain in effect all provisions of the Commission-approved SSES Units 1 and 2 Cyber Security Plan as required by 10 CFR 73.54. Federal Register notice dated March 27, 2009, issued the final rule that amended 10 CFR Part 73. The regulations in 10 CFR 73.54, “Protection of digital computer and communication systems and networks,” establish the requirements for a cyber security program. This regulation specifically requires each licensee currently licensed to operate a nuclear power plant under Part 50 of this chapter to submit a cyber security plan that satisfies the requirements of the Rule. Each submittal must include a proposed implementation schedule and implementation of the licensee's cyber security program must be consistent with the approved schedule. The background for this application is addressed by the NRC Notice of Availability, Federal Register Notice, Final Rule 10 CFR Part 73, Power Reactor Security Requirements, published on March 27, 2009, 74 FR 13926.

Basis for proposed no significant hazards consideration determination: As required by 10 CFR 50.91(a), the licensee has provided its analysis of the issue of no significant hazards consideration, which is presented below:

1. Does the proposed amendment involve a significant increase in the probability or consequences of an accident previously evaluated?

Response: No.

The proposed amendment incorporates a new requirement in the PPL Susquehanna Units 1 and 2 FOL to implement and maintain a Cyber Security Plan as part of the facility's overall program for physical protection. Inclusion of the Cyber Security Plan in the FOL itself does not involve any modifications to the safety-related structures, systems or components (SSCs). Rather, the Cyber Security Plan describes how the requirements of 10 CFR 73.54 are to be implemented to identify, evaluate, and mitigate cyber attacks up to and including the design basis cyber attack threat, thereby achieving high assurance that the facility's digital computer and communications systems and networks are protected from cyber attacks. The Cyber Security Plan will not alter previously evaluated Final Safety Analysis Report (FSAR) design basis accident analysis assumptions, add any accident initiators, or affect the function of the plant safety-related SSCs as to how they are operated, maintained, modified, tested, or inspected. Therefore, the proposed amendment does not involve a significant increase in the probability or consequences of an accident previously evaluated.

2. Does the proposed amendment create the possibility of a new or different kind of accident from any accident previously evaluated?

Response: No.

This proposed amendment provides assurance that safety-related SSCs are protected from cyber attacks. Implementation of 10 CFR 73.54 and the inclusion of a plan in the PPL Susquehanna Units 1 and 2 FOL do not result in the need for any new or different FSAR design basis accident analysis. The inclusion does not introduce new equipment that could create a new or different kind of accident, and no new equipment failure modes are created. The inclusion of the Cyber Security Plan also does not affect the function of any safety-related SSC as to how they are operated, maintained, modified, tested or inspected. As a result, no new accident scenarios, failure mechanisms, or limiting single failures are introduced as a result of this proposed amendment. Therefore, the proposed amendment does not create a possibility for an accident of a new or different type than those previously evaluated.

3. Does the proposed amendment involve a significant reduction in a margin of safety?

Response: No.

The margin of safety is associated with the confidence in the ability of the fission product barriers (i.e., fuel cladding, reactor coolant pressure boundary, and containment structure) to limit the level of radiation to the public. The proposed amendment would not alter the way safety-related SSCs function and would not alter the way PPL Susquehanna Units 1 and 2 are operated. The amendment provides assurance that safety-related SSCs are protected from cyber attacks. The proposed amendment would not introduce any new uncertainties or change any existing uncertainties associated with the design basis or any safety limit. The proposed amendment would have no impact on the structural integrity of the fuel cladding, reactor coolant pressure boundary, or containment structure. Based on the above considerations, the proposed amendment would not degrade the confidence in the ability of the fission product barriers to limit the level of radiation to the public. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Bryan A. Snapp, Esquire, Assoc. General Counsel, PPL Services Corporation, 2 North Ninth St., GENTW3, Allentown, PA 18101-1179.

NRC Branch Chief: Nancy L. Salgado

PSEG Nuclear LLC, Docket No. 50-354, Hope Creek Generating Station, Salem County, New Jersey

PSEG Nuclear LLC, Docket Nos. 50-272 and 50-311, Salem Nuclear Generating Station, Unit Nos. 1 and 2, Salem County, New Jersey

Date of amendment request: July 14, 2010.

Description of amendment request: This amendment request contains sensitive unclassified non-safeguards information (SUNSI). The proposed amendments would approve the cyber security plan and associated implementation schedule for Hope Creek Generating Station (Hope Creek) and Salem Nuclear Generating Station, Unit Nos. 1 and 2 (Salem). In addition, the amendments would revise the existing license condition regarding physical protection in each of the three facility operating licenses (FOLs) to require the licensee to fully implement and maintain in effect all provisions of the Nuclear Regulatory Commission (NRC)-approved cyber security plan. The proposed amendment was submitted pursuant to Section 73.54 of Title 10 of the Code of Federal Regulations (10 CFR) which requires licenses currently licensed to operate a nuclear power plant under 10 CFR Part 50 to submit a cyber security plan (Plan) for NRC review and approval.

Basis for proposed no significant hazards consideration determination: As required by 10 CFR 50.91(a), the licensee has provided its analysis of the issue of no significant hazards consideration, which is presented below, with NRC staff edits in square brackets:

Criterion 1: The Proposed Change Does Not Involve a Significant Increase in the Probability or Consequences of an Accident Previously Evaluated

The proposed change is required by § 73.54 (Rule) and includes three parts. The first part is the submittal of the Plan for NRC review and approval. The Plan conforms to the template provided in [Nuclear Energy Institute (NEI)] 08-09 Revision 6 and provides a description of how the requirements of the Rule will be implemented at the Salem—Hope Creek Generating Station [s]ite. The Plan establishes the licensing basis for the Salem-Hope Creek Cyber Security Program. The Plan establishes how to achieve high assurance that nuclear power plant digital computer and communication systems and networks associated with the following are adequately protected against cyber attacks up to and including the design basis threat:

1. Safety-related and important-to-safety functions,

2. Security functions,

3. Emergency preparedness functions including offsite communications, and

4. Support systems and equipment which if compromised, would adversely impact safety, security, or emergency preparedness functions.

Part one of the proposed change is designed to achieve high assurance that the systems [within the scope of the Rule] are protected from cyber attacks. The Plan itself does not require any plant modifications. However, the Plan does describe how plant modifications which involve digital computer systems are reviewed to provide high assurance of adequate protection against cyber attacks, up to and including the design basis threat as defined in the Rule. The proposed change does not alter the plant configuration, require new plant equipment to be installed, alter accident analysis assumptions, add any initiators, or [a]ffect the function of plant systems or the manner in which systems are operated, maintained, modified, tested, or inspected. The first part of the proposed change is designed to achieve high assurance that the systems within the scope of the Rule are protected from cyber attacks and has no impact on the probability or consequences of an accident previously evaluated.

The second part of the proposed change is an Implementation Schedule. The third part adds a sentence to the existing FOL license condition for Physical Protection. Both of these changes are administrative and have no impact on the probability or consequences of an accident previously evaluated.

Therefore, it is concluded that this change does not involve a significant increase in the probability or consequences of an accident previously evaluated.

Criterion 2: The Proposed Change Does Not Create the Possibility of a New or Different Kind of Accident From Any Accident Previously Evaluated

The proposed change is required by § 73.54 and includes three parts. The first part is the submittal of the Plan for NRC review and approval. The Plan conforms to the template provided by NEI 08-09 Revision 6 and provides a description of how the requirements of the Rule will be implemented at [the] Salem and Hope Creek Generating Station [s]ite. The Plan establishes the licensing basis for the Salem-Hope Creek Cyber Security Program. The Plan establishes how to achieve high assurance that nuclear power plant digital computer and communication systems and networks associated with the following are adequately protected against cyber attacks up to and including the design basis threat:

1. Safety-related and important-to-safety functions,

2. Security functions,

3. Emergency preparedness functions including offsite communications, and

4. Support systems and equipment which if compromised, would adversely impact safety, security, or emergency preparedness functions.

Part one of the proposed change is designed to achieve high assurance that the systems within the scope of the Rule are protected from cyber attacks. The Plan itself does not require any plant modifications. However, the Plan does describe how plant modifications [which involve] digital computer systems are reviewed to provide high assurance of adequate protection against cyber attacks, up to and including the design basis threat as defined in the Rule. The proposed change does not alter the plant configuration, require new plant equipment to be installed, alter accident analysis assumptions, add any initiators, or [a]ffect the function of plant systems or the manner in which systems are operated, maintained, modified, tested, or inspected. The first part of the proposed change is designed to achieve high assurance that the systems within the scope of the Rule are protected from cyber attacks and does not create the possibility of a new or different kind of accident from any previously evaluated.

The second part of the proposed change is an Implementation Schedule. The third part adds a sentence to the existing FOL license condition for Physical Protection. Both of these changes are administrative and do not create the possibility of a new or different kind of accident from any previously evaluated.

Therefore, the proposed change does not create the possibility of a new or different kind of accident from any accident previously evaluated.

Criterion 3: The Proposed Change Does Not Involve a Significant Reduction in a Margin of Safety

The proposed change is required by § 73.54 and includes three parts. The first part is the submittal of the Plan for NRC review and approval. The Plan conforms to the template provided by NEI 08-09 Revision 6 and provides a description of how the requirements of the Rule will be implemented at the Salem and Hope Creek Generating Station site. The Plan establishes the licensing basis for the Salem-Hope Creek Cyber Security Program. The Plan establishes how to achieve high assurance that nuclear power plant digital computer and communication systems and networks associated with the following are adequately protected against cyber attacks up to and including the design basis threat:

1. Safety-related and important-to-safety functions,

2. Security functions,

3. Emergency preparedness functions including offsite communications, and

4. Support systems and equipment which if compromised, would adversely impact safety, security, or emergency preparedness functions.

Part one of the proposed change is designed to achieve high assurance that the systems within the scope of the Rule are protected from cyber attacks. Plant safety margins are established through Limiting Conditions for Operation, Limiting Safety System Settings and Safety [L]imits specified in the Technical Specifications. Because there is no change to these established safety margins, the proposed change does not involve a significant reduction in a margin of safety.

The second part of the proposed change is an Implementation Schedule. The third part adds a sentence to the existing FOL license condition for Physical Protection. Both of these changes are administrative and do not involve a significant reduction in a margin of safety.

Therefore, the proposed change does not involve a significant reduction in a margin of safety.

The NRC staff has reviewed the licensee's analysis and, based on this review, with changes by the NRC staff shown in square brackets, it appears that the three standards of 10 CFR 50.92(c) are satisfied. Therefore, the NRC staff proposes to determine that the amendment request involves no significant hazards consideration.

Attorney for licensee: Vincent Zabielski, PSEG Nuclear LLC-N21, P.O. Box 236, Hancocks Bridge, NJ 08038.

NRC Branch Chief: Harold K. Chernoff.

Wolf Creek Nuclear Operating Corporation, Docket No. 50-482, Wolf Creek Generating Station, Coffey County, Kansas

Date of amendment request: July 19, 2010.

Description of amendment request: This amendment request contains sensitive unclassified non-safeguards information (SUNSI). The amendment requests for approval of the Cyber Security Plan in accordance with 10 CFR Section 73.54. In addition, the amendment would revise Section 2.E of the Renewed Facility Operating License No. NPF-42 to incorporate the provisions for implementing and maintaining in effect the provisions of the approved Cyber Security Plan.

Basis for proposed no significant hazards consideration determination: As required by 10 CFR 50.91(a), the licensee has provided its analysis of the issue of no significant hazards consideration, which is presented below:

1. Do the proposed changes involve a significant increase in the probability or consequences of an accident previously evaluated?

Response: No.

The proposed change incorporates a new requirement in the Renewed Facility Operating License to implement and maintain the Cyber Security Plan as part of the facility's overall program for physical protection. Inclusion of the Cyber Security Plan in the Renewed Facility Operating License itself does not involve any modifications to the safety related structures, systems or components (SSCs). Rather, the Cyber Security Plan describes how the requirements of 10 CFR 73.54 are to be implemented to identify, evaluate, and mitigate cyber attacks up to and including the design basis cyber attack threat, thereby achieving high assurance that the facility's digital computer and communications systems and networks are protected from cyber attacks. The implementation and incorporation of the Cyber Security Plan into the Renewed Facility Operating License will not alter previously evaluated Updated Safety Analysis Report (USAR) design basis accident analysis assumptions, add any accident initiators, or affect the function of the plant safety related SSCs as to how they are operated, maintained, modified, tested, or inspected.

Therefore, the proposed changes do not involve a significant increase in the probability or consequences of an accident previously evaluated.

2. Do the proposed changes create the possibility of a new or different kind of accident from any accident previously evaluated?

Response: No.

This proposed amendment provides assurance that safety related SSCs are protected from cyber attacks. Implementation of 10 CFR 73.54 and the inclusion of the Cyber Security Plan in the Renewed Facility Operating License do not result in the need of any new or different USAR design basis accident analysis. It does not introduce new equipment that could create a new or different kind of accident, and no new equipment failure modes are created. As a result, no new accident scenarios, failure mechanisms, or limiting single failures are introduced as a result of this proposed amendment.

Therefore, the proposed change does not create the possibility of a new or different kind of accident from any previously evaluated.

3. Do the proposed changes involve a significant reduction in a margin of safety?

Response: No.

The margin of safety is associated with the confidence in the ability of the fission product barriers (i.e., fuel cladding, reactor coolant pressure boundary, and containment structure) to limit the level of radiation to the public. The proposed amendment would not alter the way any safety related SSC functions and would not alter the way the plant is operated. The amendment provides assurance that safety related SSCs are protected from cyber attacks. The proposed amendment would not introduce any new uncertainties or change any existing uncertainties associated with any safety limit. The proposed amendment would have no impact on the structural integrity of the fuel cladding, reactor coolant pressure boundary, or containment structure. Based on the above considerations, the proposed amendment would not degrade the confidence in the ability of the fission product barriers to limit the level of radiation to the public.

Therefore the proposed change does not involve a reduction in a margin of safety.

The NRC staff has reviewed the licensee's analysis and, based on this review, it appears that the three standards of 10 CFR 50.92(c) are satisfied. Therefore, the NRC staff proposes to determine that the amendment request involves no significant hazards consideration.

Attorney for licensee: Jay Silberg, Esq., Pillsbury Winthrop Shaw Pittman LLP, 2300 N Street, NW., Washington, DC 20037.

NRC Branch Chief: Michael T. Markley.

Order Imposing Procedures for Access to Sensitive Unclassified Non-Safeguards Information for Contention Preparation

Calvert Cliffs Nuclear Power Plant, LLC, R. E. Ginna Nuclear Power Plant, LLC, and Nine Mile Point Nuclear Station, LLC, Docket Nos. 50-317, 50-318, 50-244, 50-220, and 50-410, Calvert Cliffs Nuclear Power Plant, Unit Nos. 1 and 2 (CCNPP), R.E. Ginna Nuclear Power Plant (Ginna), Nine Mile Point Nuclear Station, Unit Nos. 1 and 2 (NMPNS), Calvert County, Maryland, Wayne County, New York, and Oswego County, New York, Respectively

Carolina Power and Light Company, Docket Nos. 50-325 and 50-324, Brunswick Steam Electric Plant, Units 1 and 2, Brunswick County, North Carolina

Entergy Gulf States Louisiana, LLC, and Entergy Operations, Inc., Docket No. 50-458, River Bend Station, Unit 1, West Feliciana Parish, Louisiana

Entergy Nuclear Operations, Inc., Docket Nos. 50-003, 50-247, and 50-286, Indian Point Nuclear Generating Unit Nos. 1, 2, and 3, Westchester County, New York

Entergy Operations, Inc., Docket No. 50-313 and 50-368, Arkansas Nuclear One, Unit Nos. 1 and 2, Pope County, Arkansas

Entergy Operations, Inc., Docket No. 50-382, Waterford Steam Electric Station, Unit 3, St. Charles Parish, Louisiana

FirstEnergy Nuclear Operating Company, et al., Docket Nos. 50-334 and 50-412, Beaver Valley Power Station, Unit Nos. 1 and 2, Beaver County, Pennsylvania

Florida Power and Light Company, et al., Docket Nos. 50-335 and 50-389, St. Lucie Plant, Unit Nos. 1 and 2, St. Lucie County, Florida

Indiana Michigan Power Company, Docket No. 50-315 and 50-316, Donald C. Cook Nuclear Plant (CNP), Units 1 and 2, Berrien County, Michigan

Luminant Generation Company LLC,, Docket Nos. 50-445 and 50-446, Comanche Peak Nuclear Power Plant, Units 1 and 2, Somervell County, Texas

Nebraska Public Power District, Docket No. 50-298, Cooper Nuclear Station, Nemaha County, Nebraska

NextEra Energy Point Beach, LLC (the licensee), Docket Nos. 50-266 and 50-301, Point Beach Nuclear Plant (PBNP), Units 1 and 2, Town of Two Creeks, Manitowac County, Wisconsin

Northern States Power Company—Minnesota (NSPM), Docket No. 50-263, Monticello Nuclear Generating Plant (MNGP), Wright County, Minnesota

Northern States Power Company—Minnesota (NSPM), Docket Nos. 50-282 and 50-306, Prairie Island Nuclear Generating Plant (PINGP), Units 1 and 2, Goodhue County, Minnesota

Pacific Gas and Electric Company, Docket Nos. 50-275 and 50-323, Diablo Canyon Nuclear Power Plant, Unit Nos. 1 and 2, San Luis Obispo County, California

PPL Susquehanna, LLC, Docket Nos. 50-387 and 50-388, Susquehanna Steam Electric Station (SSES), Units 1 and 2, Luzerne County, Pennsylvania

PSEG Nuclear LLC, Docket No. 50-354, Hope Creek Generating Station, Salem County, New Jersey

Wolf Creek Nuclear Operating Corporation, Docket No. 50-482, Wolf Creek Generating Station, Coffey County, Kansas

A. This Order contains instructions regarding how potential parties to this proceeding may request access to documents containing Sensitive Unclassified Non-Safeguards Information (SUNSI).

B. Within 10 days after publication of this notice of hearing and opportunity to petition for leave to intervene, any potential party who believes access to SUNSI is necessary to respond to this notice may request such access. A “potential party” is any person who intends to participate as a party by demonstrating standing and filing an admissible contention under 10 CFR 2.309. Requests for access to SUNSI submitted later than 10 days after publication will not be considered absent a showing of good cause for the late filing, addressing why the request could not have been filed earlier.

C. The requestor shall submit a letter requesting permission to access SUNSI to the Office of the Secretary, U.S. Nuclear Regulatory Commission, Washington, DC 20555-0001, Attention: Rulemakings and Adjudications Staff, and provide a copy to the Associate General Counsel for Hearings, Enforcement and Administration, Office of the General Counsel, Washington, DC 20555-0001. The expedited delivery or courier mail address for both offices is: U.S. Nuclear Regulatory Commission, 11555 Rockville Pike, Rockville, Maryland 20852. The e-mail addresses for the Office of the Secretary and the Office of the General Counsel are Hearing.Docket@nrc.gov and OGCmailcenter@nrc.gov, respectively.¹ The request must include the following information:

¹ While a request for hearing or petition to intervene in this proceeding must comply with the filing requirements of the NRC's “E-Filing Rule,” the initial request to access SUNSI under these procedures should be submitted as described in this paragraph.

(1) A description of the licensing action with a citation to this Federal Register notice;

(2) The name and address of the potential party and a description of the potential party's particularized interest that could be harmed by the action identified in C.(1);

(3) The identity of the individual or entity requesting access to SUNSI and the requestor's basis for the need for the information in order to meaningfully participate in this adjudicatory proceeding. In particular, the request must explain why publicly-available versions of the information requested would not be sufficient to provide the basis and specificity for a proffered contention;

D. Based on an evaluation of the information submitted under paragraph C.(3) the NRC staff will determine within 10 days of receipt of the request whether:

(1) There is a reasonable basis to believe the petitioner is likely to establish standing to participate in this NRC proceeding; and

(2) The requestor has established a legitimate need for access to SUNSI.

E. If the NRC staff determines that the requestor satisfies both D.(1) and D.(2) above, the NRC staff will notify the requestor in writing that access to SUNSI has been granted. The written notification will contain instructions on how the requestor may obtain copies of the requested documents, and any other conditions that may apply to access to those documents. These conditions may include, but are not limited to, the signing of a Non-Disclosure Agreement or Affidavit, or Protective Order ² setting forth terms and conditions to prevent the unauthorized or inadvertent disclosure of SUNSI by each individual who will be granted access to SUNSI.

² Any motion for Protective Order or draft Non-Disclosure Affidavit or Agreement for SUNSI must be filed with the presiding officer or the Chief Administrative Judge if the presiding officer has not yet been designated, within 30 days of the deadline for the receipt of the written access request.

F. Filing of Contentions. Any contentions in these proceedings that are based upon the information received as a result of the request made for SUNSI must be filed by the requestor no later than 25 days after the requestor is granted access to that information. However, if more than 25 days remain between the date the petitioner is granted access to the information and the deadline for filing all other contentions (as established in the notice of hearing or opportunity for hearing), the petitioner may file its SUNSI contentions by that later deadline.

G. Review of Denials of Access.

(1) If the request for access to SUNSI is denied by the NRC staff either after a determination on standing and need for access, or after a determination on trustworthiness and reliability, the NRC staff shall immediately notify the requestor in writing, briefly stating the reason or reasons for the denial.

(2) The requestor may challenge the NRC staff's adverse determination by filing a challenge within 5 days of receipt of that determination with: (a) The presiding officer designated in this proceeding; (b) if no presiding officer has been appointed, the Chief Administrative Judge, or if he or she is unavailable, another administrative judge, or an administrative law judge with jurisdiction pursuant to 10 CFR 2.318(a); or (c) if another officer has been designated to rule on information access issues, with that officer.

H. Review of Grants of Access. A party other than the requestor may challenge an NRC staff determination granting access to SUNSI whose release would harm that party's interest independent of the proceeding. Such a challenge must be filed with the Chief Administrative Judge within 5 days of the notification by the NRC staff of its grant of access.

If challenges to the NRC staff determinations are filed, these procedures give way to the normal process for litigating disputes concerning access to information. The availability of interlocutory review by the Commission of orders ruling on such NRC staff determinations (whether granting or denying access) is governed by 10 CFR 2.311.³

³ Requestors should note that the filing requirements of the NRC's E-Filing Rule (72 FR 49139; August 28, 2007) apply to appeals of NRC staff determinations (because they must be served on a presiding officer or the Commission, as applicable), but not to the initial SUNSI request submitted to the NRC staff under these procedures.

I. The Commission expects that the NRC staff and presiding officers (and any other reviewing officers) will consider and resolve requests for access to SUNSI, and motions for protective orders, in a timely fashion in order to minimize any unnecessary delays in identifying those petitioners who have standing and who have propounded contentions meeting the specificity and basis requirements in 10 CFR Part 2. Attachment 1 to this Order summarizes the general target schedule for processing and resolving requests under these procedures.

It is so ordered.
Dated at Rockville, Maryland, this 30th day of September 2010.
For the Commission.
Annette L. Vietti-Cook,
Secretary of the Commission.

ATTACHMENT 1—General Target Schedule for Processing and Resolving Requests for Access to Sensitive Unclassified Non-Safeguards Information in This Proceeding

Day | Event/Activity
0 | Publication of Federal Register notice of hearing and opportunity to petition for leave to intervene, including order with instructions for access requests.
10 | Deadline for submitting requests for access to Sensitive Unclassified Non-Safeguards Information (SUNSI) with information: supporting the standing of a potential party identified by name and address; describing the need for the information in order for the potential party to participate meaningfully in an adjudicatory proceeding.
60 | Deadline for submitting petition for intervention containing: (i) Demonstration of standing; (ii) all contentions whose formulation does not require access to SUNSI (+25 Answers to petition for intervention; +7 requestor/petitioner reply).
20 | Nuclear Regulatory Commission (NRC) staff informs the requestor of the staff's determination whether the request for access provides a reasonable basis to believe standing can be established and shows need for SUNSI. (NRC staff also informs any party to the proceeding whose interest independent of the proceeding would be harmed by the release of the information.) If NRC staff makes the finding of need for SUNSI and likelihood of standing, NRC staff begins document processing (preparation of redactions or review of redacted documents).
25 | If NRC staff finds no “need” or no likelihood of standing, the deadline for requestor/petitioner to file a motion seeking a ruling to reverse the NRC staff's denial of access; NRC staff files copy of access determination with the presiding officer (or Chief Administrative Judge or other designated officer, as appropriate). If NRC staff finds “need” for SUNSI, the deadline for any party to the proceeding whose interest independent of the proceeding would be harmed by the release of the information to file a motion seeking a ruling to reverse the NRC staff's grant of access.
30 | Deadline for NRC staff reply to motions to reverse NRC staff determination(s).
40 | (Receipt +30) If NRC staff finds standing and need for SUNSI, deadline for NRC staff to complete information processing and file motion for Protective Order and draft Non-Disclosure Affidavit. Deadline for applicant/licensee to file Non-Disclosure Agreement for SUNSI.
A | If access granted: Issuance of presiding officer or other designated officer decision on motion for protective order for access to sensitive information (including schedule for providing access and submission of contentions) or decision reversing a final adverse determination by the NRC staff.
A + 3 | Deadline for filing executed Non-Disclosure Affidavits. Access provided to SUNSI consistent with decision issuing the protective order.
A + 28 | Deadline for submission of contentions whose development depends upon access to SUNSI. However, if more than 25 days remain between the petitioner's receipt of (or access to) the information and the deadline for filing all other contentions (as established in the notice of hearing or opportunity for hearing), the petitioner may file its SUNSI contentions by that later deadline.
A + 53 | (Contention receipt +25) Answers to contentions whose development depends upon access to SUNSI.
A + 60 | (Answer receipt +7) Petitioner/Intervenor reply to answers.
A + 60 | Decision on contention admission.

[FR Doc. 2010-25144 Filed 10-8-10; 8:45 am]

BILLING CODE 7590-01-P